DEPARTMENT OF COMMERCE

International Trade Administration

Export Trade Certificate of Review

ACTION: Notice of issuance of an amended export trade certificate of review, Application No. 88-3A012.

SUMMARY: The Department of Commerce has issued an amendment to the Export Trade Certificate of Review granted to National Tooling & Machining Association (“NTMA”) on October 18, 1988. Notice of issuance of the Certificate was published in the Federal Register on October 25, 1988 (53 FR 43140).

FOR FURTHER INFORMATION CONTACT: Morton Schnabel, Director, Office of Export Trading Company Affairs, International Trade Administration, (202) 482-5131 (this is not a toll-free number) or at E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR Part 325 (1999).

The Office of Export Trading Company Affairs (“OETCA”) is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 88-00012, was issued to NTMA on October 18, 1988 (53 FR 43140, October 25, 1988) and previously amended on December 4, 1989 (54 FR 51914, December 19, 1989), and September 2, 1993 (58 FR 47868, September 13, 1993).

NTMA's Export Trade Certificate of Review has been amended to include the attached list of companies as “Members” of the Certificate within the meaning of section 325.2(1) of the Regulations (15 CFR 325.2(1)).

A copy of the amended certificate will be kept in the International Trade Administration's Freedom of Information Records Inspection Facility, Room 4102, U.S. Department of Commerce, 14th Street and Constitution Avenue, N.W., Washington, D.C. 20230.

Dated: May 3, 2000.
Morton Schnabel,
Director, Office of Export Trading, Company Affairs.

Attachment

b & b Tool Company, Inc., Rockford, IL

A & A Industries, Inc., Peabody, MA

A & A Machine Company, Inc., Southampton, PA

A & A Machine Shop, Inc., La Marque, TX

A & B Machine, Van Nuys, CA

A & B Machine Shop, Rockford, IL

A & B Tool & Manufacturing Corp., Toledo, OH

A & D Precision, Fremont, CA

A & E Custom Manufacturing, Kansas City, KS

A & E Machine Shop, Inc., Lone Star, TX

A & G Machine, Inc., Auburn, WA

A & S Tool & Die Company, Inc., Kernersville, NC

A A Precisioneering, Inc., Meadville, PA

A B A Division, Manchester, CT

A B C O Tool & Engineering, Phoenix, AZ

A B Heller, Inc., Milford, MI

A B N Industrial Co., Inc., Buena Park, CA

A B R Enterprises Inc., South Pasadena, CA

A C Machine, Inc., Akron, OH

A C Mfg. Co. Inc., Malden, MA

A E Cole Die & Engraving, Columbus, OH

A E Machine Works, Inc., Houston, TX

A F C Tool Company, Inc., Dayton, OH

A I M Tool & Die, Grand Haven, MI

A M C Precision, Inc., N. Tonawanda, NY

A M Design, E. Canton, OH

A M Machine Company, Inc., Baltimore, MD

A Mfg., Grand Terrace, CA

A S C Corporation, Owings Mills, MD

A T G, Inc., Houston, TX

A. C. Cut-Off, Inc., Azusa, CA

A+ Engineering, Ipswich, MA

A-G Tool & Die, Miamitown, OH

A-Line Tool & Die, Inc., Louisville, KY

A-RanD, Inc., Phoenix, AZ

A-W Engineering Company, Inc., Santa Fe Springs, CA

Abbott Machine & Tool, Inc., Toledo, OH

Abbott Tool, Inc., Toledo, OH

Ability Tool Company, Rockford, IL

Able Wire EDM, Inc., Brea, CA

Abrams Airborne Manufacturing, Tucson, AZ

Abrasive Machining Inc., Rockford, IL

Absolute Manufacturing, N. Chelmsford, MA

Absolute Turning & Machine, Tucson, AZ

Acadiana Hydraulic Works, Inc., New Iberia, LA

Accu Die & Mold Inc., Stevensville, MI

Accu-Right Laser Corporation, Villa Ridge, MO

Accu-Roll, Inc., Rochester, NY

Accudynamics, Inc., Middleboro, MA

Accudyne Aerospace & Defense, Palm Bay, FL

Accura Industries, Inc., Rochester, NY

Accurate Grinding & Mfg. Corp., Los Angeles, CA

Accurate Grinding Corp., Warwick, RI

Accurate Machine Co. Inc., Indianapolis, IN

Accurate MachineWorks, Inc., Newport Beach, CA

Accurate Machining, Mukilteo, WA

Accurate Manufacturing Company, Glendale, CA

Accurate Manufacturing Company, Alsip, IL

Accurate Products Co., Tucson, AZ

Accurite Machine & Mfg. Inc., Louisville, KY

Accutronics, Inc., Littleton, CO

AccuCraft, New Haven, MO

AccuRounds, Avon, MA

Ace Manufacturing Company, Cincinnati, OH

Ace Specialty Company, Inc., Tonawanda, NY

Ackley Machine Corporation, Moorestown, NJ

Acklin Stamping, Toledo, OH

Acme Brass & Machine Works, Inc., Kansas City, MO

Acra Aerospace, Inc., Anaheim, CA

Acraloc Corporation, Oak Ridge, TN

Acro Industries, Inc., Rochester, NY

Acro Tool & Die Company, Inc., Akron, OH

Actco Tool & Mfg. Co., Meadville, PA

Action Die & Tool Inc., Wyoming, MI

Action Mold & Machining, Inc., Grand Rapids, MI

Action Mold & Tool Co., Anaheim, CA

Action Precision Grinding Inc., North Tonawanda, NY

Action SuperAbrasive Products, Brimfield, OH

Action Tool & Die Inc., Rockford, IL

Action Tool & Manufacturing Inc., Dallas, TX

Active Tool Company, Meadville, PA

Acucut, Inc., Southington, CT

Acutec Precision Machining Inc., Saegertown, PA

Ada Machine Company, Inc., Santa Clara, CA

Adams Engineering, Division of Manufacturing Technology, Inc., South Bend, IN

Adaptive Technologies Inc., Springboro,OH

Addison Precision Mfg. Corp., Rochester, NY

Adena Tool Corporation, Dayton, OH

Admill Machine Company, Newington, CT

Adron Tool Corporation, Menomonee Falls, WI

Advance Gear & Machine Corp., Gardena, CA

Advance Manufacturing Corp., Cleveland, OH

Advance Manufacturing Technology, Salt Lake City, UT

Advanced Ceramic Technology, Orange, CA

Advanced Composite Products, Huntington Beach, CA

Advanced Cutting Tools, Inc., Clio, MI

Advanced Machine & Eng. Co., Rockford, IL

Advanced Machine Programming, Morgan Hill, CA

Advanced Machining Corporation, Salisbury, NC

Advanced Measurement Labs, Inc., Sun Valley, CA

Advanced Mold & Tooling Inc., Rochester, NY

Advanced Tooling Systems, Inc., Comstock Park, MI

Advantage Mold & Design, Meadville, PA

Aero Comm Machining, Wichita, KS

Aero Design & Manufacturing Co., Phoenix, AZ

Aero Engineering & Mfg. Company, Valencia, CA

Aero Gear, Inc., Windsor, CT

Aero Machining Company, Garden Grove, CA

Aero Mechanical Engineering, Inc., Huntington Beach, CA

Aero-Tech Engineering, Inc., Wichita, KS

Aerofab, Inc., Tucson, AZ

Aerofast Ltd., Scottsdale, AZ

Aerostar Aerospace Inc., Phoenix, AZ

Aetna Machine Company, Cochranton, PA

Aggressive Tool & Die, Inc., Coopersville, MI

Aggressive Tool & Die, Inc., Buckner, KY

Agrimson Tool Company, Brooklyn Park, MN

Ahaus Tool & Engineering, Inc., Richmond, IN

Aimco Precision, Inc., Phoenix, AZ

Airfoil Technology, Inc., Gilbert, AZ

Airmetal Corporation, Jackson, MI

Ajax Tool, Inc., Fort Wayne, IN

Akro Tool Co., Inc., Cincinnati, OH

Akron Steel Fabricators Company, Akron, OH

Akron Tool & Die Company, Inc., Akron, OH

Alamance Machine Company, Inc., Burlington, NC

Alart Tool & Die, Inc., Houston, TX

Albert Seisler Machine Corp., Mohnton, PA

Albertson & Hein, Inc., Wichita, KS

Albion Machine & Tool Company, Albion, MI

Alco Manufacturing, Inc., Santa Ana, CA

Alfred Manufacturing Company, Denver, CO

Alfro Custom Manufacturing, Waterbury, CT

Alger Machine Company, Inc., Rochester, NY

Alignment Engineering Co., Inc., Knoxville, TN

Alkron Manufacturing Corporation, Rochester, NY

All Five Tool Company, Inc., Bristol, CT

All Precision Mfg., LLC, Nokomis, IL

All Tool Company, Union, NJ

All Tools Company, Oklahoma City, OK

All Tools Texas, Inc., Houston, TX

All Weld Machine, Milpitas, CA

All-Tech Machine & Eng., Inc., San Jose, CA

All-Tech Machining, Inc., Wilmer, AL

Allen Aircraft Products, Inc., Ravenna, OH

Allen Precision Industries, Inc., Asheboro, NC

Allen Precision Machining Co., Angleton, TX

Allen Randall Enterprises, Inc., Akron, OH

Alliance Machine Tool Co., Inc., Louisville, KY

Allied Mechanical Products, Ontario, CA

Allied Screw Products, Inc., Mishawaka, IN

Allied Tool & Die Company, LLC, Phoenix, AZ

Allied Tool & Die, Inc., Cleveland, OH

Allied Tool & Machine Company, Kernersville, NC

Allied Tool & Machine, Inc., Saginaw, MI

Allied Tools Of Texas, Houston, TX

Alloy Metal Products, Hayward, CA

Alloy Tool Steel, Inc., Santa Fe Springs, CA

Allstate Tool & Die, Inc., Rochester, NY

Almar Mfg. & Engineering, Inc., Garden Valley, CA

Alpa Precision Machine Works, Houston, TX

Alpha Mold Inc., LLC, Huber Heights, OH

Alpha Mold West Inc., Broomfield, CO

Alpha Precision Machining Inc., Kent, WA

Alpha Tool & Machine Company, Bellmawr, NJ

Alpha Tooling, Inc., Santa Fe Springs, CA

Alpine Precision, Inc., North Billerica, MA

Alro Specialty Metals, St. Louis, MO

Alt's Tool & Machine, Inc., Santee, CA

Alta Engineering, Inc., Sun Valley, CA

Alton Products, Inc., Maumee, OH

Aluminum Precision Products, Inc., Santa Ana, CA

Alves Precision Engineered, Watertown, CT

Amatrol, Inc., Jeffersonville, IN

Ambel Precision Mfg. Corp., Bethel, CT

Ambox, Inc., Houston, TX

Amcraft Corporation, Oceanside, CA

American Machine & Gundrilling, Co., Maple Grove, MN

American Metal Masters, Inc., Plantsville, CT

American Mfg. & Machining, Inc., Racine, WI

American Mold & Engineering Co., Fridley, MN

American Precision Hydraulics, Huntington Beach, CA

American Precision Machining, Phoenix, AZ

American Precision Technologies, San Fernando, CA

American Tool & Die, Inc., Toledo, OH

American Wire EDM, Inc., Orange, CA

Amerimold, Inc., Mogadore, OH

Ameritech Die & Mold, Inc., Mooresville, NC

Ames Engineering Corp., Wilmington, DE

Amity Mold Company, Tipp City, OH

Ampswiss Engineering, Fremont, CA

Anchor Lamina Inc., Madison Heights, MI

Anchor Lamina Inc., Cheshire, CT

Anchor Tool & Die Company, Cleveland, OH

Anchor Tool & Die Company, Warren, MI

Anders Machine and Engraving, Rochester, NY

Anderson Tool & Engineering Co., Anderson, IN

Andrew Tool Company, Inc., Plymouth, MN

Anglo-American Mold, Inc., Louisville, KY

Angus Industries, LLC, Indianapolis, IN

Anmar Precision Components Inc., North Hollywood, CA

Anoplate Corporation, Syracuse, NY

Apex Machine Company, Ft. Lauderdale, FL

Apex Machine Tool Company, Inc., Farmington, CT

Apex Manufacturing, Inc., Phoenix, AZ

Apex Precision Technologies, Inc., Indianapolis, IN

Apex Tool & Manufacturing, Inc., Evansville, IN

Apollo E.D.M. Company, Fraser, MI

Apollo Precision, Inc., Plymouth, MN

Apollo Products Inc., Willoughby, OH

Applegate EDM, Inc., Dallas, TX

Applied Engineering, Inc., Yankton, SD

Applied Technology Manufacturing, Owego, NY

Applied Technology Manufacturing, Rochester, NY

Aram Precision Tool & Die, Inc., Chatsworth, CA

Arc Drilling Inc., Garfield Heights, OH

Arc Weld Inc./A.W.I., West Newton, PA

Arca Systems, Tacoma, WA

Arco Industries, Inc., Dayton, OH

Arco Metals Corporation, Baltimore, MD

Ardekin Machine Company, Rockford, IL

Area Tool & Manufacturing, Inc., Meadville, PA

Argo Tool Corporation, Twinsburg, OH

Argus Machine, Inc., Tucson, AZ

Aries Tool, Inc., New Berlin, WI

Arkansas Tool & Die, Inc., North Little Rock, AR

Arken Manufacturing, Inc., Cleveland, OH

Arlington Machine & Tool Company, Fairfield, NJ

Arma Tool & Die Company, Inc., Ridgefield, CT

Armin Tool & Manufacturing Co., South Elgin, IL

Armstrong Machine Works, Inc., Rogersville, TN

Armstrong Mold, Machining Div., East Syracuse, NY

Armstrong-Blum Mfg. Co., Mt. Prospect, IL

Arnett Tool, Inc., New Paris, OH

Arrington Supply House, Inc., Tuscaloosa, AL

Arro Tool & Die, Inc., Lakewood, NY

Arrow Diversified Tooling, Inc., Ellington, CT

Arrow Grinding, Inc., Tonawanda, NY

Arrow Tool & Gage Company, Inc., Tulsa, OK

Arrowsmith International, Inc., Southfield, MI

Arthur J. Evers Corporation, Riverton, NJ

Artisan Associates, Detroit, MI

Artisan Machining, Inc., Bohemia, NY

Ascension Industries, North Tonawanda, NY

Ash Machine Corporation, Pataskala, OH

Aspen Precision Technologies, Petaluma, CA

Associated Electro-Mechanics, Springfield, MA

Associated Gear, Inc., Santa Fe Springs, CA

Associated Technologies, Brea, CA

Associated Toolmakers, Inc., Keokuk, IA

Associates Commercial Corp., Irving, TX

Astley Precision Machine Co., Irwin, PA

Astro Automation, Inc., Irwin, PA

Astro Machine Works Inc., Ephrata, PA

Astrotronics Inc., Mesa, AZ

Atec Tool & Engineering, Inc., Santa Clara, CA

Athens Industries, Southington, CT

Atkins Tool Company, Riverton, NJ

Atlantic Alloys, Inc., Bristol, RI

Atlantic Precision Products Inc., Biddeford, ME

Atlantic Tool & Die Company, Strongsville, OH

Atlantis Tool Corporation, Rochester, NY

Atlas Die & Manufacturing Co., Rockford, IL

Atlas Machine & Supply, Inc., Louisville, KY

Atlas Tool, Inc., Roseville, MI

Atols Tool & Mold Corporation, Schiller Park, IL

August Machine, Inc., Phoenix, AZ

Austin Machine Company Inc., O'Fallon, MO

Austinburg Machine, Inc., Austinburg, OH

Austro Mold Incorporated, Rochester, NY

Autocam Corporation, Kentwood, MI

Automated Cells & Equipment, Inc., Painted Post, NY

Automated EDM Incorporated, Ramsey, MN

Automatic Stamp Products, Inc., Cleveland, OH

Automation Technologies Corp., Cranston, RI

Automation Tool & Die, Inc., Brunswick, OH

Automation Tool Company, Cookeville, TN

Axian Technology, Phoenix, AZ

Axis Machining Inc., Slatersville, RI

Ay Machine Company, Ephrata, PA

Ay-Mac Precision, Inc., Yorba Linda, CA

Azbill Tool & Die, Inc., Huntington Beach, CA

AAA Machine Inc., Rochester, NY

ABBEC Manufacturing, Rochester, NY

ACMT, Inc. dba A C Tool & Machine, Louisville, KY

ALKAB Contract Manufacturing, Inc., New Kensington, PA

AMA Plastics, Corona, CA

AMS Production Machining Inc., Plainfield, IN

AMT Inc., Tullahoma, TN

APEC, LLC, Hingham, MA

AT Engineering & Mfg., Inc., Chatsworth, CA

B & A Design Inc., Vernon, CT

B & B Machine & Grinding Service, Denver, CO

B & B Manufacturing Company, Largo, FL

B & B Precision Mfg., Inc., Avon, NY

B & E Tool Company, Inc., Southwick, MA

B & G Quality Machine & Tool, Baltimore, MD

B & H Fabricators, Inc., Wilmington, CA

B & H Tool Co. Inc., San Marcos, CA

B & H Tool Works, Inc., Richmond, KY

B & K Engineering, Inc., Mountain View, CA

B & L Tool and Machine Company, Plainville, CT

B & R Mold, Inc., Simi Valley, CA

B & W Tool & Die, Inc., Dallas, TX

B C D Metal Products Inc., Malden, MA

B J Williams Machining Co., Edinboro, PA

B P I Corporation, Santa Clara, CA

B. Radtke & Sons, Inc., Round Lake Park, IL

B-W Grinding Service, Inc., Houston, TX

Babbitt Bearing, Inc., Syracuse, NY

Bachman Machine Company, Inc., St. Louis, MO

Bachmann Precision Machine, South El Monte, CA

Badge Machine Products, Inc., Canandaigua, NY

Baham & Sons Machine Works, Inc., Houston, TX

Bahrs Die & Stamping Company, Cincinnati, OH

Baker Hill Industries, Inc., Coral Springs, FL

Banner Machine Inc., Phoenix, AZ

Banner Tool & Die, Inc., Rockford, IL

Barberie Mold, Gardena, CA

Barile Precision Grinding Inc., Cleveland, OH

Basic VI, San Jose, CA

Bass Machining Inc., Baltimore, MD

Bateman Manufacturing Co., Inc., Hayward, CA

Baumann Engineering, Claremont, CA

Bawden Industries, Inc., Romulus, MI

Baxter Machine Products, Inc., Huntingdon, PA

Bay Industrial Machine, Green Bay, WI

Bayport Machine, Inc., La Porte, TX

Beach Mold & Tool, Inc., New Albany, IN

Beacon Tool Company, Inc., Whittier, CA

Beaver Fab Inc., Cedar Hill, TX

Beaver Tool & Machine Company, Inc., Feasterville, PA

Bechler Cams, Inc., Anaheim, CA

Beck Tool Incorporated, Edinboro, PA

Becker, Inc., Kenosha, WI

Becksted Machine, Inc., Tucson, AZ

Bedard Machine, Inc., Brea, CA

Beja Precision Manufacturing, Rochester, NY

Bel-Kur, Inc., Temperance, MI

Belco Tool & Mfg. Inc., Meadville, PA

Belgian Screw Machine Products, Jackson, MI

Bell Engineering, Inc., Saginaw, MI

Bell Tool, Inc., Germantown, WI

Bellco Precision Manufacturing, McKinney, TX

Beloit Precision Die Co. Inc., Beloit, WI

Benda Tool & Model Works, Hercules, CA

Bendon Gear Machine, Rockland, MA

Bennett Tool & Die Company, Nashville, TN

Bennett Tool & Machine, Fremont, CA

Benning Inc., Blaine, MN

Bent River Machine Inc., Clarkdale, AZ

Berman Tool & Die, Waldorf, MD

Bermar Associates, Inc., Troy, MI

Bertram Tool & Machine Co., Inc., Farrell, PA

Best Carbide Cutting Tools, Inc., Gardena, CA

Best Tool & Manufacturing Co., Kansas City, MO

Best Way Stamping Inc., La Mirada, CA

Bestway Industries, Inc., Cleveland, OH

Beta Machine Co. Inc., Cleveland, OH

Beta Tool & Mold/Dyna-Tech, Wadsworth, OH

Bilar Tool & Die Corporation, Warren, MI

Billet Industries, Inc., York, PA

Bishop Steering Technology, Inc., Indianapolis, IN

Blackburn Melton Mfg. Company, Houston, TX

Blackwood Grinding Inc., Hurst, TX

Blandford Machine & Tool Co., Louisville, KY

Blankinship Industries, Ltd., Kent, WA

Blue Chip Mold, Inc., Rochester, NY

Blue Chip Tool Company, Inc., New Castle, PA

Bluegrass Forging, Tool & Die, Shelbyville, KY

Bob's Tool & Cutter Grinding, Indianapolis, IN

Boehnen Tool Company, Cleveland, OH

Boice Industrial Corporation, Ruffsdale, PA

Bolttech Inc., West Newton, PA

Bopp-Busch Manufacturing Company, Au Gres, MI

Boring, Inc., Rockford, IL

Bosma Machine & Tool, Tipp City, OH

Boston Centerless Inc., Woburn, MA

Bowden Manufacturing Corp., Willoughby, OH

Boyce Machine, Inc., Cuyahoga Falls, OH

Boyle, Inc., Freeport, PA

Bra-Vor Tool & Die Company, Inc., Meadville, PA

Bradhart Products, Inc., Brighton, MI

Bramko Tool & Engineering, Inc., O'Fallon, MO

Bratt Machine Company Inc., No. Andover, MA

Brimar Products Inc., Fontana, CA

Brimfield Precision, Brimfield, MA

Brink's Machine Company, Inc., Alma, MI

Brinkman Tool & Die, Inc., Dayton, OH

Bristol Instrument Gears, Inc., Forestville, CT

Britt Tool Inc., Brazil, IN

Brittain Machine, Inc., Wichita, KS

Broadway Companies, Inc., Englewood, OH

Brogdon Tool & Die, Inc., Blue Springs, MO

Bromac, Inc., Mountain View, CA

Brookfield Machine, Inc., West Brookfield, MA

Brooklyn Machine & Mfg. Co. Inc., Cuyahoga Heights, OH

Brooklyn Scraping & Re-Machining, W. Lafayette, IN

Brown-Covey, Inc., Kansas City, MO

Brownstown Quality Tool & Design, Brownstown, IN

Budney Overhaul & Repair, LTD., Berlin, CT

Buerk Tool & Machine Corporation, Buffalo, NY

Buiter Tool & Die, Inc., Grand Rapids, MI

Bundy Manufacturing Inc., El Segundo, CA

Burckhardt America, Inc., Greensboro, NC

Burco Precision Products, Inc., Denton, TX

Burger Engineering, Inc., Olathe, KS

Burgess Brothers, Inc., Canton, MA

Burkland Textron Inc., Goodrich, MI

Burton Industries Inc., Mentor, OH

Burtree, Inc., Van Nuys, CA

BMCO Industries Inc., Cranston, RI

BNB Manufacturing Company, Inc., Winsted, CT

BT Laser, Inc., Santa Clara, CA

C + H Manufacturing Inc., Ontario, CA

C & C Machine Company, Akron, OH

C & C Manufacturing Corporation, Englewood, CO

C & J Industries Inc., Meadville, PA

C & M Machine Products, Inc., Willoughby, OH

C & R Manufacturing, Inc., Shawnee, KS

C & S Machine & Manufacturing, Louisville, KY

C & W Machine, Indianapolis, IN

C A R Engineering & Mfg., Victor, NY

C B Enterprises, Manchester, CT

C B Kaupp & Sons, Inc., Maplewood, NJ

C B S Manufacturing Company, Inc., Windsor, CT

C D M Tool & Mfg. Co., Inc., Hartford, WI

C F A Company, Inc., Milford, CT

C J Winter Machine Technologies, Rochester, NY

C K Tool, Harborcreek, PA

C M Gordon Industries Inc., Santa Fe Springs, CA

C M Industries, Inc., Old Saybrook, CT

C M Smillie & Company, Ferndale, MI

C N C Machine & Engineering, Colorado Springs, CO

C N C Precision Machining, Inc., Comstock Park, MI

C Q Machining, Inc., Phoenix, AZ

C R E Enterprises, Inc., Phoenix, AZ

C T D Machines, Inc., Los Angeles, CA

C T M, Inc., Grand Rapids, MI

C V Tool Company, Inc., Southington, CT

C. G. Tech, Inc., Phoenix, AZ

C.N.C. Tool & Mold, Naples, FL

C-P Mfg. Corp., Van Nuys, CA

Caco Pacific Corporation, Covina, CA

Cadco Program & Machine, St. Charles, MO

Cal-Weld, Fremont, CA

Calder Machine Co. (C M C), Florence, SC

California Composite Design, Inc., Santa Ana, CA

California Mold, Fullerton, CA

California Reamer Company Inc., Santa Fe Springs, CA

Calmax Machining, Inc., Santa Clara, CA

Cambridge Specialty Company, Inc., Kensington, CT

Cambridge Tool & Die Corp., Cambridge, OH

Cambridge Tool & Manufacturing, North Billerica, MA

Cameron Machine Shop, Inc., Richardson, TX

Campbell Grinding & Machine, Inc., Lewisville, TX

Campbell Machinery, Inc., Stow, OH

CamTech Systems Inc., Alhambra, CA

Canto Tool Corporation, Meadville, PA

Capitol Technologies, Inc., South Bend, IN

Capitol Tool & Die, L. P., Madison, TN

Carbi-Tech, Inc., Apollo, PA

Carbide Probes, Inc., Dayton, OH

Cardinal Machine Company, Inc., Strongsville, OH

Carius Tool Co., Inc., Cleveland, OH

Carlin Machine Company, Inc., Southborough, MA

Carlson Capital Manufacturing Co., Rockford, IL

Carlson Industrial Grinding Inc., Erie, PA

Carlson Tool & Manufacturing, Cedarburg, WI

Cascade Mold & Die, Inc., Portland, OR

Cass Screw Machine Products, Brooklyn Center, MN

Castle Precision Products, Stockton, CA

Catalina Precision Engineering, LLC, Orange, CA

Catalina Tool & Mold, Inc., Tucson, AZ

Cates Machine Shop, Inc., Tyler, TX

Cedar CNC Machining, Inc., Cedar Springs, MI

Cee-San Machine & Fabrication, Houston, TX

Cempi Industries Inc., Orange, CA

Centaur Tool & Die, Inc., Bowling Green, OH

Centennial Technologies, Inc., Saginaw, MI

Center Line Industries, Inc., West Springfield, MA

Center Line Machine Company, Lafayette, CO

Center Line Tool, Freeport, PA

Central Industrial Supply, Grand Prairie, TX

Central Mass. Machine, Inc., Holyoke, MA

Central States Machine Service, Elkhart, IN

Central Tool & Machine Co., Inc., Bridgeport, CT

Central Tool Company, Inc., Fortville, IN

Central Tools, Inc., Cranston, RI

Centric Machine & Instrument, Tampa, FL

Century Die Company, Fremont, OH

Century Mold Company, Inc., Rochester, NY

Century Tool & Engr., Inc., Indianapolis, IN

Cer Mac Inc., Horsham, PA

Certified Grinding & Machine, Rochester, NY

Certified Industries, II, LLC, Phoenix, AZ

Challenger Worldwide (USA), LLC, Chandler, AZ

Chalmers & Kubeck, Inc., Aston, PA

Chamtek Mfg., Inc., Rochester, NY

Chance Tool & Die Co., Inc., Cincinnati, OH

Chandler Tool & Design Inc., Rockford, IL

Chapman Engineering, Inc., Santa Ana, CA

Chapman Machine Company, Inc., Terryville, CT

Charmilles Technologies, Lincolnshire, IL

Chase Machine & Mfg. Co., Rochester, NY

Chelar Tool & Die, Inc., Belleville, IL

Cherokee Industries, Hampshire, IL

Cherry Valley Tool & Machine Inc., Belvidere, IL

Chicago Grinding & Machine Co., Melrose Park, IL

Chicago Mold Engineering Co., Inc., St. Charles, IL

Chickasha Manufacturing Company, Chickasha, OK

Chip-Makers Tooling Supply, Whittier, CA

Chippewa Tool & Manufacturing Co., Woodville, OH

Christie Manufacturing, Inc., Gainesville, TX

Christopher Tool & Manufacturing, Solon, OH

Circle-K-Industries, Sterling, VA

City Industrial Tool & Die, Harbor City, CA

Clarion Tech. Caledonia Tool, Caledonia, MI

Clark & Wheeler Engineering, Inc., Cerritos, CA

Clark-Reliance Corporation, Strongsville, OH

Clarke Engineering, Inc., North Hollywood, CA

Class Machine & Welding, Inc., Akron, OH

Classic Tool, Saegertown, PA

Classic Tool, Inc., Macedonia, OH

Classic Wire Cut Company, Inc., Valencia, CA

Clay & Bailey Mfg. Co., Kansas City, MO

Cleveland Electric Laboratories, Twinsburg, OH

Clifton Automatic Screw, Lake City, PA

Clifton Technical Company, Lincolnton, NC

Cloud Company, San Luis Obispo, CA

Coast Cutters Company, Inc., South El Monte, CA

Coastal Machine Company, Branford, CT

Cobak Tool & Manufacturing Co., St. Louis, MO

Coffey Associates, Washington, DC

Coleman-Fabro, Inc., Morgan Hill, CA

Collins Instrument Company, Angleton, TX

Collins Machine & Tool Co., Inc., Madison, TN

Collins Machine Works, Inc., Wellford, SC

Collins Manufacturing, Inc., Essex, MA

Colonial Machine & Tool Co., Inc., Coventry, RI

Colonial Machine Company, Kent, OH

Colorado Laser Marking, Inc., Colorado Springs, CO

Colorado Surface Grinding, Inc., Denver, CO

Columbia Machine Works, Inc., Columbia, TN

Columbia Products, Inc., Dallastown, PA

Comac Manufacturing Corporation, Oroville, CA

Comet Tool, Inc., Hopkins, MN

Comfab, Inc., Spartanburg, SC

Command Tooling Systems, Ramsey, MN

Commerce Grinding, Inc., Dallas, TX

Commercial Aircraft Products, Wichita, KS

Commonwealth Machine Co., Inc., Danville, VA

Companion Industries, Inc., Southington, CT

Competition Tooling, Inc., High Point, NC

Competitive Engineering Inc., Tucson, AZ

Composidie, Inc., Apollo, PA

Compu Die, Inc., Wyoming, MI

Compumachine Incorporated, Wilmington, MA

Computech Manufacturing Co., Inc., North Kansas City, MO

Computerized Machining Service, Englewood, CO

Concept Tool & Die Company, Euclid, OH

Conco Systems, Inc., Verona, PA

Condor Engineering, Inc., Colorado Springs, CO

Connecticut Jig Grinding, Inc., New Britain, CT

Connelly Machine Works, Santa Ana, CA

Connolly Tool & Machine Co., Dallas, TX

Connor Formed Metal Products, Grand Prairie, TX

Conroy & Knowlton, Inc., Los Angeles, CA

Consolidated Mold & Mfg. Inc., Kent, OH

Consulting-Design-Construction, Inc., Phoenix, AZ

Conti Machine Tool Company, Inc., Haverhill, MA

Conti Tool & Die Company, Akron, OH

Continental Precision, Inc., Phoenix, AZ

Continental Tool & Machine, Strongsville, OH

Continental Tool & Manufacturing, Lenexa, KS

Contour Metrological & Mfg., Inc., Troy, MI

Converse Industries Inc., Kenosha, WI

Convex Mold, Inc., Sterling Heights, MI

Cook Machine and Engineering, Gardena, CA

Cook Specialty Company, Green Lane, PA

Coorstek, Livermore, CA

Corbitt Mfg. Company, St. Louis, MO

Cornerstone Screw Machine, Burbank, CA

Corrigan Manufacturing Co., Inc., Rockford, IL

Corrugated Roller & Machine Inc., Santa Fe Springs, CA

Corry Custom Machine, Corry, PA

Corver Engineering Company, Inc., Detroit, MI

Cosar Mold, Inc., Brimfield, OH

Costa Machine, Inc., Akron, OH

Country Machine & Tool, Inc., Tipp City, OH

Coventry Carbide Tool, Coventry, RI

Covert Manufacturing, Inc., Galion, OH

Cox Mfg. Co. Inc., San Antonio, TX

Cox Tool Company, Inc., Excelsior Springs, MO

Craft Tech, Inc., Addison, TX

Craft-Tech Enterprises, Inc., Troy, MI

Craig Machinery & Design, Inc., Louisville, KY

Creative Precision, West, Phoenix, AZ

Creb Engineering, Inc., Pascoag, RI

Crenshaw Die & Manufacturing, Irvine, CA

Crest Manufacturing Company, Lincoln, RI

Criterion Tool & Die, Inc., Brook Park, OH

Crosrol, Inc., Greenville, SC

Crossland Machinery, Kansas City, MO

CrossRidge Precision, Oak Ridge, TN

Crowe Manufacturing Services Inc., Dayton, OH

Crown Machine, Inc., Rockford, IL

Crown Mfg. Co., Inc., Newark, CA

Crown Mold & Machine, Streetsboro, OH

Crown Tool & Die Co., Inc., Bridgeport, CT

Crucible Materials Corporation, Camillus, NY

Crush Master Grinding Corp., Walnut, CA

Cumberland Machine Company, Nashville, TN

Custom Engineering, Inc., Evansville, IN

Custom Gear & Machine, Inc., Rockford, IL

Custom Machine, Inc., Woburn, MA

Custom Machine, Inc., Cleveland, OH

Custom Mold & Design, Inc., New Hope, MN

Custom Tool & Design, Inc., Erie, PA

Custom Tool & Grinding Inc., Washington, PA

Custom Tool & Model Corp., Frankfort, NY

Cut-Right Tools Corporation, Willoughby, OH

CAMtech Precision Manufacturing, Jupiter, FL

CDL Manufacturing, Inc., Rochester, NY

CG Manufacturing Company, Willoughby, OH

CHIPSCO, Inc., Meadville, PA

D & B Industries, Inc., Dayton, OH

D & H Manufacturing Company, Fremont, CA

D & J Precision Machining, Inc., Hayward, CA

D & K Industries, Inc., Chatsworth, CA

D & M Precision Manufacturing, Vandergrift, PA

D & N Precision, Inc., San Jose, CA

D & R Precision Machining, San Jose, CA

D & S Manufacturing Corporation, Southwick, MA

D & S Mold & Tool Company, Inc., Marinette, WI

D K Mold & Engineering, Inc., Wyoming, MI

D M E Company, Madison Heights, MI

D M Machine & Tool, Kennerdell, PA

D M Machine Company, Inc., Willoughby, OH

D P I, Inc., Southampton, PA

D P Tool & Machine Inc., Avon, NY

D S A Precision Machining, Inc., Lakeville, NY

D S Greene Company, Inc., Wakefield, MA

D S Mfg., Inc., Ventura, CA

D-K Manufacturing Corporation, Fulton, NY

D-Velco Manufacturing, Phoenix, AZ

Dadeks Machine Works Corporation, Houston, TX

Daily Industrial Tools, Costa Mesa, CA

Dan McEachern Company, Alameda, CA

Dan's Precision Grinding, Sun Valley, CA

Danco Precision, Inc., Phoenixville, PA

Dane Systems, Inc., Stevensville, MI

Danly IEM, Chicago, IL

Data Mold & Tool, Inc., Walbridge, OH

Dave Jones Machinists, Mishawaka, IN

David Engineering & Mfg., Corona, CA

Davis Machine & Manufacturing, Arlington, TX

Davis Technologies, Inc., Poway, CA

Davken Inc., Brea, CA

Dayton Progress Corporation, Dayton, OH

Dayton Reliable Tool & Mfg. Co., Dayton, OH

DaCo Precision Manufacturers, Sandy, UT

De King Screw Products Inc., Burbank, CA

De Long Manufacturing Co., Inc., Santa Clara, CA

De-Lux Mold & Machine, Inc., Brady Lake, OH

Dean Machine, Cranston, RI

Dearborn Precision Tubular, Fryeburg, ME

Deck Brothers, Inc., Buffalo, NY

Dekalb Tool & Die, Inc., Tucker, GA

Delco Corporation, Akron, OH

Delco Machine & Gear, No. Long Beach, CA

Dell Tool, Penfield, NY

Delltronics, Inc., Englewood, CO

Delta Machine & Tool Company, Cleveland, OH

Delta Machining, Inc., Niles, MI

Delta Systems, Inc., Streetsboro, OH

Delta Tech, Inc., Mentor, OH

Demaich Industries, Inc., Johnston, RI

Dependable Machine Company, Inc., Indianapolis, IN

Dependable Tool & Manufacturing, Cleveland, OH

Desert Precision Mfg., Inc., Tucson, AZ

Designs For Tomorrow, Inc., St. Louis, MO

Desselle Maggard Corporation, Baton Rouge, LA

Detail Technologies, Inc., Grandville, MI

Detroit Tool & Engineering Co., Lebanon, MO

Deutsch ECD, Hemet, CA

Devtek Engineering, Colorado Springs, CO

Di-Matrix, Phoenix, AZ

Dial Machine Company, Andalusia, PA

Diamond Lake Tool, Inc., Anoka, MN

Diamond Machine Works, Inc., Seattle, WA

Diamond Mold & Die, Inc., Tallmadge, OH

Diamond Tool & Die Co., Inc., Euclid, OH

Diamond Tool & Engineering, Inc., Bertha, MN

Dickey & Son Machine & Tool Co., Indianapolis, IN

Dickson Machine & Tool, Inc., Dickson, TN

Die Cast Die and Mold, Inc., Perrysburg, OH

Die Dimensions, Kentwood, MI

Die Matic Corporation, Brooklyn Heights, OH

Die Products Corporation, Minneapolis, MN

Die Quip Corp., Bethel Park, PA

Die Tech Industries, Ltd., Providence, RI

Die-Matic Tool and Die, Inc., Grand Rapids, MI

Die-Mension Corporation, Brunswick, OH

Die-Namic Inc., Taylor, MI

Diemaster Tool & Mold, Inc., Macedonia, OH

Dietooling, Div. of Diemolding, Wampsville, NY

Digital Tool & Die, Inc., Grandville, MI

Dimac Manufacturing Co., Inc., Alexander, AR

Distinctive Machine Corporation, Grand Rapids, MI

Diversified Engraving Stamp, Akron, OH

Diversified Manufacturing, Lockport, NY

Diversified Tool & Die, Vista, CA

Diversified Tool, Inc., Mukwonago, WI

Dixie Tool & Die Co., Inc., Gadsden, AL

Dixon Automatic Tool, Inc., Rockford, IL

Double B Tool, San Leandro, CA

Double D Machine & Tool Company, Fremont, OH

Douglas Machine & Engineering Co., Davenport, IA

Downey Grinding Company, Inc., Downey, CA

Dowty's Machine Works, Inc., Baton Rouge, LA

Doyle Manufacturing, Inc., Holland, OH

Drabik Tool and Die Inc., Brook Park, OH

Draco Manufacturing, Inc., Ashtabula, OH

Drewco Corporation, Franksville, WI

Drill Masters Inc., Hamden, CT

Droitcour Company, Warwick, RI

Du-Well Grinding Company, Inc., Milwaukee, WI

Dugan Tool & Die Company, Toledo, OH

Dugan Tool & Die, Inc., Cottage Hills, IL

Dun-Rite Fabricating Inc., Saginaw, MI

Dun-Rite Industries, Inc., Monroe, MI

Dunn & Bybee Tool Company, Inc., Sparta, TN

Duplicate Parts Company, Inc., San Marcos, CA

Dura-Metal Products Corporation, Irwin, PA

Durivage Pattern & Mfg. Co. Inc., Williston, OH

DuWest Tool & Die, Inc., Cleveland, OH

Dwyer Instruments Inc., Grandview, MO

Dynamic Engineering, Inc., Minneapolis, MN

Dynamic Fabrication, Inc., Santa Ana, CA

Dynamic Machine & Fabricating, Phoenix, AZ

Dynamic Technologies and Design, Grand Rapids, MI

Dynamic Tool & Design, Inc., Menomonee Falls, WI

DynaGrind Precision, Inc., New Kensington, PA

Dysinger Incorporated, Dayton, OH

DB Design Group Inc., Milpitas, CA

E&C Manufacturing Company, Inc., Toledo, OH

E B&Sons Machine Inc., Aliquippa, PA

E C M Of Florida, Jupiter, FL

E F Precision Inc., Willow Grove, PA

E J Codd Co. of Baltimore City & Codd Fabricators & Boiler Co., Inc., Baltimore, MD

E R C Concepts Company, Inc., Sunnyvale, CA

E W Johnson Company, Inc., Lewisville, TX

E.C.M. Mold & Die, Inc., Tucson, AZ

E.D.M. Exotics, Inc., Hayward, CA

E.T. Tool, Inc., Racine, WI

E-Fab, Inc., Santa Clara, CA

E-M-Solutions, Inc., Fremont, CA

Eagle Metalcraft, Inc., East Syracuse, NY

Eagle Mold Company, Inc., Carlisle, OH

Eagle Technology Group, St. Joseph, MI

Eagle Tool & Die Company Inc., Malvern, PA

Eagle Tool & Machine Company, Springfield, OH

Eason & Waller, Phoenix, AZ

East Coast Tool & Mfg., Inc., Orchard Park, NY

East Side Machine, Inc., Webster, NY

East Texas Machine Works, Inc., Longview, TX

Eastern Tool & Die, Inc., Newington, CT

Eaton Manufacturing, Inc., Fremont, CA

Ebway Corporation, Fort Lauderdale, FL

Eckert Enterprises Ltd., Tempe, AZ

Eckert Machining, Inc., San Jose, CA

Eclipse Mold, Inc., Clinton Township, MI

Eclipse Tool & Die, Inc., Wayland, MI

Ed Brown Products, Inc., Perry, MO

Edco, Inc., Toledo, OH

Edwards Enterprises, Newark, CA

Edwardsville Machine & Welding, Edwardsville, IL

Efficient Die & Mold Inc., Cleveland, OH

Egbert Precision, Inc., Woodland Park, CO

Egli Machine Company, Inc., Sidney, NY

Ehlert Tool Co., Inc., New Berlin, WI

Ehrhardt Tool & Machine Company, Granite City, IL

Eicom Corporation, Moraine, OH

Ejay's Machine Co., Inc., Fullerton, CA

Elcam Tool & Die, Inc., Wilcox, PA

Electra Form, Inc., Vandalia, OH

Electric Enterprise Inc., Stratford, CT

Electro Form Corporation, Binghamton, NY

Electro-Freeto Manufacturing Co., Wayland, MA

Electro-Mechanical Products, Inc., Denver, CO

Electro-Tech Machining, Long Beach, CA

Electroform Co. Inc., Machesney Park, IL

Electropolishing shop, Inc., Santa Clara, CA

Elgin Machine Corporation, Inwood, NY

Elite Tool & Machinery Systems, Inc., O'Fallon, MO

Elizabeth Carbide of North, Lexington, NC

Elizabeth Carbide Die Co., Inc., McKeesport, PA

Elliot Tool & Manufacturing Co., St. Louis, MO

Elliott's Precision, Inc., Peoria, AZ

Ellison Machine Company, Laurens, SC

Elrae Industries, Alden, NY

Emig Machine and Tool, Warwick, PA

Emmert Welding & Manufacturing, Independence, MO

Empire Manufacturing Corporation, Bridgeport, CT

Engbrecht Tool, Inc., San Jose, CA

Engineered Machine Tool, Inc., Wichita, KS

Engineered Pump Services, Inc., Pasadena, TX

Entek Corporation, Norman, OK

Enterprise Die & Mold, Inc., Grandville, MI

Enterprise Tool & Die, Brooklyn Heights, OH

Ephrata Precision Parts, Inc., Denver, PA

Epicor Software Corporation, Minneapolis, MN

Erca Tool Die & Stamping Company, Richmond Hill, NY

Erickson Tool & Machine Company, Rockford, IL

Erie Shore Machine Co., Inc., Cleveland, OH

Erie Specialty Products, Inc., Erie, PA

Ermco, Inc., Cleveland, OH

Estee Mold & Die, Inc., Dayton, OH

Esterle Mold & Machine Co., Stow, OH

Estul Tool & Manufacturing Co., Matthews, NC

Evans Tool & Die, Inc., Conyers, GA

Ever Fab, Inc., East Aurora, NY

Ever-Ready Tool, Inc., Pinellas Park, FL

Everett Pattern and Mfg., Inc., Middleton, MA

Everite Machine Products, Philadelphia, PA

Ewart-Ohlson Machine Company, Cuyahoga Falls, OH

Ex-Cel Machine & Tool, Inc., Louisville, KY

Exact Cutting Service, Inc., Brecksville, OH

Exact Tool & Die, Inc., Brook Park, OH

Exacta Tech Inc., Livermore, CA

Exacto, Inc. of South Bend, South Bend, IN

Excalibur Precision Machine Co., Hampstead, NH

Excel Machine Company, Philadelphia, PA

Excel Manufacturing Inc., Seymour, IN

Excel Manufacturing, Inc., Valencia, CA

Excel Stamping & Manufacturing, Houston, TX

Excel Tool & Mfg., Lenexa, KS

Executive Mold Corporation, Huber Heights, OH

Ezell Precision Tool Company, Clearwater, FL

EDM Supplies, Inc., Downey, CA

EISC, Inc., Toledo, OH

E2 Systems Inc., Blue Ash, OH

F & F Machine Specialties, Mishawaka, IN

F & G Tool & Die Company, Dayton, OH

F & L Tools Corporation, Corona, CA

F & S Tool, Inc., Erie, PA

F C Machine Tool & Design, Inc., Cuyahoga Falls, OH

F D T Precision Machine Co., Inc., Taunton, MA

F G A Inc., Baton Rouge, LA

F H Peterson Machine Corporation, Stoughton, MA

F K Instrument Co., Inc., Clearwater, FL

F M Machine Company, Akron, OH

F N Smith Corporation, Oregon, IL

F P Pla Tool & Manufacturing Co., Buffalo, NY

F R B Machine Inc., Emlenton, PA

F S G Inc, Mishawaka, IN

F T T Manufacturing Inc., Geneseo, NY

F Tinker & Sons Company, Pittsburgh, PA

F W Gartner Thermal Spraying Co., Houston, TX

F. S. Machining, Inc., Englewood, CO

F-Squared, Inc., Tarentum, PA

Fab Lab, Inc., Maryland Heights, MO

FabCorp, Inc., Houston, TX

Fairbanks Machine & Tool, Raytown, MO

Fairview Machine Company, Inc., Topsfield, MA

Faith Tool & Manufacturing, Inc., Willoughby, OH

Falcon Precision Machining Co., West Springfield, MA

Falls City Machine Technology, Louisville, KY

Falls Mold & Die, Inc., Stow, OH

Fame Tool & Manufacturing Co., Cincinnati, OH

Fantasy Manufacturing, Inc., Windsor, CA

Fargo Machine Company, Inc., Ashtabula, OH

Farzati Manufacturing Corp., Greensburg, PA

Fast Physics Inc., Tempe, AZ

Fay & Quartermaine Machining, El Monte, CA

Fay Tool & Die, Inc., Orlando, FL

Feedall, Inc., Willoughby, OH

Feilhauer's Machine Shop Inc., Cincinnati, OH

Feller Tool Co., Inc., Elyria, OH

Fenwick Machine & Tool, Piedmont, SC

Feral Productions LLC., Newark, CA

Ferriot Inc., Akron, OH

Fidelity Tool & Machine Company, Fort Lauderdale, FL

First International Bank, Hartford, CT

First Precision Machine, LLC, Blaine, MN

Fischer Precision Spindles, Inc., Berlin, CT

Fischer Tool & Die Corporation, Temperance, MI

Fitzwater Engineering Corp., Scituate, RI

Five Star Industries LLC, Dayton, OH

Five Star Tool Company, Inc., Rochester, NY

Flasche Models & Patterns, Inc., Cleveland, OH

Fleck Machine Company, Inc., Hanover, MD

Foriska Machine Shop, Saegertown, PA

Forrest Manufacturing Company, Houston, TX

Forster Tool & Mfg. Inc., Bensenville, IL

Forte Company, Kansas City, MO

Foster-Tobin Corp., Meadville, PA

Foundry Service & Supplies, Inc., Torrance, CA

Fox Valley Tool & Die, Inc., Kaukauna, WI

Franchino Mold & Engineering, Lansing, MI

Frank J. Stolitzka & Son, Inc., Akron, OH

Frasal Tool Co., Inc., Newington, CT

Frazier Aviation, Inc., San Fernando, CA

Fre-Mar Industries, Inc., North Royalton, OH

Frederick’s Machine Shop, New Iberia, LA

Fredon Corporation, Mentor, OH

Freeport Welding & Fabricating, Freeport, TX

FreeMarkets, Pittsburgh, PA

Frost & Company, Charlestown, RI

Fulcrum Group, LLC, Hayward, CA

Fulton Industries, Inc., Rochester, IN

Fulton Tool Company, Inc., Fulton, NY

Furno Co. Inc., Pomona, CA

Future Fabricators, Phoenix, AZ

Future Tool & Die Company, Inc., Cleveland, OH

Future Tool & Die, Inc., Grandville, MI

Future Tool, Inc., Rockford, IL

Fyco Tool & Die, Inc., Houston, TX

FMF Racing, Rancho Dominguez, CA

G & G Tool Company, Inc., Sidney, OH

G & K Machine Company, Denver, CO

G & L Tool Corp., Agawam, MA

G B F Enterprises, Inc., Santa Ana, CA

G B Tool Company, Warwick, RI

G F T Manufacturing Company, Vandergrift, PA

G H Tool & Mold, Inc., Washington, MO

G M T Corporation, Waverly, IA

G R McCormick, Inc., Burbank, CA

G S C Manufacturing Inc., Indianapolis, IN

G S G Tool and Manufacturing, Meadville, PA

G S Precision, Inc., Brattleboro, VT

Gadsden Tool, Inc., Gadsden, AL

Gainesville Machining Inc., Gainesville, TX

Gales Manufacturing Corporation, Racine, WI

Galgon Industries, Inc., Fremont, CA

Gambar Products Company, Inc., Warwick, RI

Garcia Associates, Arlington, VA

Gatco, Inc., Plymouth, MI

Gauer Mold & Machine Company, Tallmadge, OH

Gaum, Inc., Robbinsville, NJ

Gear Manufacturing, Inc., Anaheim, CA

Gebhardt Machine Works, Inc., Portland, OR

Geiger Manufacturing, Inc., Stockton, CA

Gem City Engineering Company, Dayton, OH

Gene's Gundrilling Inc., Alahambra, CA

General Aluminium Forgings, Colorado Springs, CO

General Die Engraving, Inc., Peninsula, OH

General Engineering Company, Toledo, OH

General Grinding, Inc., Oakland, CA

General Machine Shop, Inc., Cheverly, MD

General Machine-Diecron, Inc., Griffin, GA

General Tool & Die Company, Inc., Racine, WI

General Tool Company, Cincinnati, OH

General Weldments Inc., Irwin, PA

Genesee Manufacturing Company, Rochester, NY

Genesee Precision Mfg., Inc., Avon, NY

Genesis Plastics & Engineering, Scottsburg, IN

Gentec Manufacturing Inc., San Jose, CA

Geometric Tool & Machine Co., Piedmont, SC

George Welsch & Son Company, Cleveland, OH

German Machine, Inc., Rochester, NY

Germantown Tool & Machine, Huntingdon Valley, PA

Gibbs Die Casting Corporation, Henderson, KY

Gibbs Machine Company, Inc., Greensboro, NC

Giddings & Lewis, Dayton, OH

Gilbert Engineering Company, Glendale, AZ

Gilbert Machine & Tool Company, Greene, NY

Gill Tool & Die, Inc., Grand Rapids, MI

Gillette Machine & Tool Company, Rochester, NY

Gillilan Machine Co., Inc., Mt. Juliet, TN

Girard Tool & Die/Jackburn Mfg., Girard, PA

Gischel Machine Company Inc., Baltimore, MD

Givmar Precision Machining, Mountain View, CA

Glaze Tool & Engineering, Inc., New Haven, IN

Glendale Machine Company, Inc., Solon, OH

Glendo Corporation, Emporia, KS

Glidden Machine & Tool, Inc., North Tonawanda, NY

Global Mfg. & Assembly, Phoenix, AZ

Global Precision, Inc., Davie, FL

Goebel Machine Service, Inc., Kansas City, MO

Golis Machine, Inc., Montrose, PA

Goodwin-Bradley Pattern Co., Inc., Providence, RI

Graham Tech Inc., Cochranton, PA

Granby Mold, Inc., Walled Lake, MI

Grand Valley Manufacturing, Titusville, PA

Graybill's Tool & Die, Inc., Manheim, PA

Great Lakes E.D.M. Inc., Clinton Twp., MI

Great Lakes Metal Treating, Inc., Tonawanda, NY

Great Lakes Precision Machine, Niles, MI

Great Western Grinding & Eng., Huntington Beach, CA

Grind All Precision Tool Co., Warren, MI

Grind-All, Inc., Cleveland, OH

Grinding Service & Mfg. Co., Bristol, CT

Grindworks Inc., Glendale, AZ

GrindC/O Inc., Chelmsford, MA

Grosmann Precision, Ballwin, MO

Grover Gundrilling, Inc., Norway, ME

Guill Tool & Engineering Co., West Warwick, RI

Gulf Machining, Pinellas Park, FL

Gulf South Machine/Drilex Corp., Houston, TX

Gurney Precision Machining, Saint Petersburg, FL

H & H Machine & Tool Company, Woonsocket, RI

H & H Machine Company, Whittier, CA

H & H Machine Shop Of Akron, Inc., Akron, OH

H & H Machined Products, Inc., Erie, PA

H & J Tool and Die Co., Inc., Bohemia, NY

H & K Machine Service Co. Inc., O’Fallon, MO

H & M Precision Machining, Santa Clara, CA

H & S Enterprises, Inc., Monrovia, CA

H & W Machine Company, Broomfield, CO

H & W Tool Company, Inc., Dover, NJ

H B Machine, Inc., Phoenix, AZ

H Brauning Company, Inc., Manassas, VA

H H Mercer, Inc., Mesquite, TX

H R M Machine, Inc., Costa Mesa, CA

H T P, Inc., Louisville, KY

H-B Tool & Cutter Grinding Inc., Willow Grove, PA

Haberman Machine, Inc., St. Paul, MN

Hackett Precision Company, Nashville, TN

Hager Machine & Tool, Inc., Houston, TX

Haig Precision Mfg. Corp., Campbell, CA

Hal-West Technologies, Inc., Kent, WA

Hamblen Gage Corporation, Indianapolis, IN

Hamill Manufacturing Company, Trafford, PA

Hamilton Industries, Inc., Tempe, AZ

Hamilton Machine Co., Inc., Nashville, TN

Hamilton Mold & Machine, Inc., Cleveland, OH

Hamilton Tool Company, Inc., Meadville, PA

Hamlin Steel Products, Inc., Akron, OH

Hammill Manufacturing Company, Toledo, OH

Hammon Precision Technologies, Hayward, CA

Hanks Pattern Company, Montrose, MN

Hanover Machine Company, Ashland, VA

Hans Rudolph, Inc., Kansas City, MO

Hansen Engineering, Harbor City, CA

Hansford Manufacturing Corp., Rochester, NY

Hanson Mold, St. Joseph, MI

Har-Phill Machine Products, Inc., Tempe, AZ

Harding Machine, East Liberty, OH

Hardy Machine Inc., Hatfield, PA

Hardy-Reed Tool & Die Co., Manitou Beach, MI

Harley & Son, Inc., Yorba Linda, CA

Harrison Enterprise, Inc., Phoenix, AZ

Hartup Tool Inc., Columbus, IN

Haserodt Machine & Tool, Inc., Cleveland, OH

Haskell Machine & Tool, Inc., Homer, NY

Haumiller Engineering Company, Elgin, IL

Hawkeye Precision, Inc., Gilbert, AZ

Hawkins Machine Company, Inc., Coventry, RI

Hawkinson Mold Engineering Co., Alhambra, CA

Hayden Corporation, West Springfield, MA

Hayden Precision Industries, Orchard Park, NY

Heatherington Machine Corp., Orlando, FL

Heinhold Engineering & Machine, Salt Lake City, UT

Heisey Machine Co., Inc., Lancaster, PA

Heitz Machine & Manufacturing, Maryland Heights, MO

Hellebusch Tool & Die, Inc., Washington, MO

Helm Precision, Ltd., Phoenix, AZ

Henman Engineering & Machine, Muncie, IN

Herman Machine, Inc., Tallmadge, OH

Herrick & Cowell Company, Hamden, CT

Hetrick Mfg., Inc., Lower Burrell, PA

Heyden Mold & Bench Company, Tallmadge, OH

Heyl Engraving, Inc., Akron, OH

Hi Tech Manufacturing, LLC, Greensboro, NC

Hi-Tech Machining & Engineering LLC, Tucson, AZ

Hi-Tech Tool Industries, Inc., Troy, MI

Hi-Tech Tool, Inc., Lower Burrell, PA

Hiatt Metal Products Company, Muncie, IN

Hickory Machine Company, Inc., Newark, NY

High Tech Turning Co., Watertown, MA

High Tech West, Inc., Signal Hill, CA

High-Tech Industries, Holland, MI

Highland Mfg. Inc., Manchester, CT

Hill Engineering, Inc., Villa Park, IL

Hillcrest Precision Tool Co. Inc., Haverhill, MA

Hillcrest Tool & Die, Inc., Titusville, PA

Hilton Tool & Die Corporation, Rochester, NY

Hittle Machine & Tool Company, Indianapolis, IN

Hobson & Motzer, Inc., Durham, CT

Hodon Manufacturing Inc., Willoughby, OH

Hoercher Industries, Inc., East Rochester, NY

Hoffman Custom Tool & Die, Newport Beach, CA

Hoffstetter Tool & Die, Clearwater, FL

Hole Specialists, Inc., Ludlow, MA

Holland Hitch Co., Wylie, TX

Hollis Line Machine Co., Inc., Hollis, NH

Holmes Manufacturing Corporation, Cleveland, OH

Holton Mold & Engineering, Upland, CA

Homeyer Tool and Die Co., Marthasville, MO

Honemasters, Inc., Huntington Beach, CA

Hoop's Machine & Welding, Inc., Denton, TX

Hope Manufacturing, Inc., Greensboro, NC

Hoppe Tool, Inc., Chicopee, MA

Horizon Industries, Lancaster, PA

Horizon Tool & Die Corp., Grandville, MI

Houston Cutting Tools, Inc., Houston, TX

Howard Tool Co. Inc., Hampden, ME

Howell Tool & Machine, Flower Mound, TX

Howland Machine Corporation, Colorado Springs, CO

Hubbell Machine Company, Inc., Cleveland, OH

Humboldt Instrument Company, San Leandro, CA

Hunt Machine & Manufacturing Co., Tallmadge, OH

Huntington Beach Machining, Huntington Beach, CA

Huron Machine Products, Inc., Fort Lauderdale, FL

HydraWedge Corporation, El Segundo, CA

Hydro Aluminum Cedar Tools, Cedar Springs, MI

Hydrodyne Division Of FPI, Inc., Burbank, CA

Hydromat, Inc., St. Louis, MO

Hygrade Precision Technologies, Plainville, CT

Hytron Manufacturing Company, Huntington Beach, CA

HB Molding, Inc., Louisville, KY

I M I, Incorporated, Beaumont, TX

I T M, Inc., Shertz, TX

Ideal Grinding Technologies, Inc., Chatsworth, CA

Ideality Inc., Everett, WA

Imperial Die & Manufacturing Co., Cleveland, OH

Imperial Machine & Tool Company, Wadsworth, OH

Imperial Machining Co., Denver, CO

Imperial Mfg., Santa Fe Springs, CA

Imperial Newbould, Meadville, PA

Imperial Tool & Manufacturing Co., Lexington, KY

Independent Forge Company, Orange, CA

Indiana Tool & Die Company, Indiana, PA

Industrial Babbitt Bearing, Gonzales, LA

Industrial Custom Automatic, Dayton, OH

Industrial Grinding, Inc., Dayton, OH

Industrial Machine & Tool Co., Inc., Nashville, TN

Industrial Machine Company, Oklahoma City, OK

Industrial Machining Corporation, Santa Clara, CA

Industrial Maintenance, Lavergne, TN

Industrial Mold + Machine, Twinsburg, OH

Industrial Molds, Inc., Rockford, IL

Industrial Precision Products, Oswego, NY

Industrial Precision, Inc., Westfield, MA

Industrial Tool & Machine Co., Cuyahoga Falls, OH

Industrial Tool, Die & Engineering, Tucson, AZ

Industrial Tool, Inc., Minneapolis, MN

Industrial Tooling Technologies, Muskegon, MI

Ingersoll Contract Manufacturing, Loves Park, IL

Injection Mold & Machine Company, Akron, OH

Inland Tool & Manufacturing Co., Kansas City, KS

Inline Inc., Phoenix, AZ

Innex Industries, Inc., Rochester, NY

Innovative E D M, LLC, Troy, MI

Innovative Systems Machine, Toledo, OH

Inshield Die & Stamping Co., Toledo, OH

Insulate Industries, Auburn, WA

Integrated Machine Systems, Inc., Bethel, CT

Integrity Manufacturing, Colorado Springs, CO

Integrity Mfg. L.L.C., Farmington, CT

International Stamping Inc., Warwick, RI

International Tooling & Stamping, Mt. Juliet, TN

Interscope Manufacturing Inc., Middletown, OH

Intrex Corporation, Louisville, CO

Iverson Industries, Inc., Wyandotte, MI

ILM Tool, Inc., Hayward, CA

IMS, Inc., Decatur, AL

IQC, Inc., Vandalia, OH

ISO Machining, Inc., Pleasanton, CA

ITW CIP Tool and Die, Santa Fe Springs, CA

J & A Tool Company, Inc., Franklin, PA

J & F Machine Company, Cleveland, OH

J & F Machine Inc., Cypress, CA

J & J Tool Co., Inc., Louisville, KY

J & L Development, Inc., Keithville, LA

J & L EDM, Sunnyvale, CA

J & M Machine, Inc., Fairport Harbor, OH

J & M Unlimited, Ashland City, TN

J & S Centerless Grinding, New Britain, CT

J B Tool Die & Engineering, Inc., Fort Wayne, IN

J B Tool, Inc., Placentia, CA

J C B Precision Tool & Mold, Inc., Commerce City, CO

J D C Manufacturing, Inc., Redwood City, CA

J D Kauffman Machine Shop, Inc., Christiana, PA

J D Machining, Santa Clara, CA

J F Fredericks Tool Company, Inc., Farmington, CT

J I Machine Company, Inc., San Diego, CA

J K Tool & Die, Inc., Apollo, PA

J M Fabrication Corporation, Arlington, TX

J M Mold South, Easley, SC

J M Mold, Inc., Piqua, OH

J M P Industries, Inc., Cleveland, OH

J M S Mold & Engineering Co., South Bend, IN

J R Custom Metal Products, Inc., Wichita, KS

J Ross Miller & Sons, Inc., Kimberton, PA

J S Die & Mold, Inc., Byron Center, MI

J W Harwood Company, Cleveland, OH

J. C. Milling Co., Inc., Rockford, IL

J.B.A.T. t/a Cherry Hill, Cherry Hill, NJ

Jackman Machining, Corona, CA

Jackson & Heit Machine Company, Southampton, PA

Jackson's Precision Machine Co., Nashville, TN

Jacksonville Machine Inc., Jacksonville, IL

Jaco Engineering, Anaheim, CA

Jaco Tool & Die, Inc., Grand Rapids, MI

Jadco Inc., Springfield, MA

Jamison Mfg. Co., North Royalton, OH

Jaques Diamond Tool, Inc., Indianapolis, IN

Jasco Tools, Inc., Rochester, NY

Jason Tool & Engineering, Inc., Garden Grove, CA

Jatco Machine & Tool Company, Pittsburgh, PA

Jaycraft Corporation, Spring Valley, CA

Jena Tool Corporation, Dayton, OH

Jenkins Machine, Inc., Bethlehem, PA

Jenn Manufacturing Company, Inc., Warminster, PA

Jennison Corporation, Carnegie ,PA

Jergens Tool and Mold, Englewood, OH

Jergens, Inc., Cleveland, OH

Jeropa Swiss Precision, Inc., Escondido, CA

Jesel, Inc., Lakewood, NJ

Jesse Industries, Inc., Sparks, NV

Jet Products Co., Inc., Phoenix, AZ

Jetstream Water Cutting, Inc., Hayward, CA

Jewett Machine Mfg. Co., Inc., Richmond, VA

Jig Grinding Service Company, Cleveland, OH

Jirgens Modern Tool Corporation, Kalamazoo, MI

John Ramming Machine Company, St. Louis, MO

Johnson Engineering Company, Indianapolis, IN

Johnson Precision, Inc., Buffalo, NY

Johnson Tool, Inc., Fairview, PA

Johnstone Engineering & Machine, Parkesburg, PA

Joint Production Technology, Inc., Macomb, MI

Joint Venture Tool & Mold, Saegertown, PA

Jonco Tool Company, Racine, WI

Joseph Alziebler Company, Arleta, CA

Juell Machine Company, Inc., Pomona, CA

Just in Time CNC Machining Inc., Dansville, NY

JBK Manufacturing & Development, Dayton, OH

JRM Machine Company, St. Paul, MN

K & A Tooling, Santa Ana, CA

K & E Mfg. Company, Lee's Summit, MO

K & H Mold & Machine Division, Akron, OH

K & H Precision Products, Inc., Honeoye Falls, NY

K & M Machine-Fabricating, Inc., Cassopolis, MI

K & M Precision Machining, Inc., Signal Hill, CA

K & S Tool & Die, Inc., Meadville, PA

K & S Tool & Mfg. Company, Inc., Jamestown, NC

K L H Industries, Inc., Germantown, WI

K L N Precision Machining & Sheetmetal Corp., San Carlos, CA

K M F, Inc., Fairdale, KY

K M S Machine Works, Inc., Taunton, MA

K Mold & Engineering, Inc., Granger, IN

K V, Inc., Huntingdon Valley, PA

K.C.K. Tool & Die Co., Inc., Ferndale, MI

K-Form, Inc., Tustin, CA

Ka-Wood Gear & Machine Company, Madison Heights, MI

Kahre Brothers, Inc., Evansville, IN

Kalman Manufacturing, Morgan Hill, CA

Kamashian Engineering Inc., Bellflower, CA

Kamet, Santa Clara, CA

Kanis Machine & Manufacturing, Inc., Tewksbury, MA

Kansas City Screw Products Inc., Kansas City, MO

Karlson Machine Works, Inc., Phoenix, AZ

Kaskaskia Tool & Machine, Inc., New Athens, IL

Kaufhold Machine Shop, Inc., Lancaster, PA

Kearflex Engineering Company, Warwick, RI

Keck-Schmidt Tool & Die, South El Monte, CA

Kell-Strom Tool Company, Inc., Wethersfield, CT

Kellems & Coe Tool Corporation, Jeffersonville, IN

Keller Technology Corporation, Tonawanda, NY

Kelley Industries, Inc., Eighty Four, PA

Kelltech Precision Machining, Inc., San Jose, CA

Kelly & Thome, Pomona, CA

Kelm Manufacturing Company, Benton Harbor, MI

Kelmar, Inc., Midland, VA

Kem-Mil-Co, Hayward, CA

Kemco Tool & Machine Company, Fenton, MO

Kenlee Precision Corporation, Baltimore, MD

Kennametal Inc., Latrobe, PA

Kennedy & Bowden Machine Company, La Vergne, TN

Kennick Mold & Die, Inc., Cleveland, OH

Kentucky Machine & Tool Company, Louisville, KY

Kern Special Tools Company, Inc., New Britain, CT

Ketcham Diversified Tooling Inc., Meadville, PA

Kewill ERP, Inc., Edina, MN

Keyes Machine Works, Inc., Gates, NY

Keystone Electric Co., Inc., Baltimore, MD

Keystone Machine, Inc., Littlestown, PA

Kimberly Gear & Spline, Inc., Phoenix, AZ

King Machine & Engineering Co., Indianapolis, IN

King-Tek EDM & Precision Machining, Fullerton, CA

Kipp Group, Ontario, CA

Kirby Risk Precision Machining, Lafayette, IN

Kirca Precision, Rochester, NY

Kiwanda Machine Works, Inc., Clackamas, OR

Klein Steel Service, Inc., Rochester, NY

Klix Tool Corporation, Syracuse, NY

Knight Machine & Tool, South Hadley, MA

Knowlton Manufacturing Company, Norwood, OH

Knust—S B O, Houston, TX

Kolar Inc., Ithaca, NY

Kolenda Tool & Die, Inc., Wyoming, MI

Kordenbrock Tool & Die Company, Cincinnati, OH

Kovacs Machine & Tool Company, Wallingford, CT

Krato Products Corporation, St. Louis, MO

Krause Tool, Inc., Golden, CO

Kuester Tool & Die Co., Inc., Quincy, IL

Kuhn Tool & Die Co., Meadville, PA

Kurt J. Lesker Company, Pittsburgh, PA

Kurt Manufacturing Company, Minneapolis, MN

KG Tool Company, Madison Township, OH

L & L Machine, Inc., Ludlow, MA

L & P Machine, Inc., Santa Clara, CA

L A I Southwest, Inc., Phoenix, AZ

L H Carbide Corporation, Fort Wayne, IN

L P I Corporation, Hollywood, FL

L R G Corporation, Jeannette, PA

L R W Cutting Tools, Inc., Phoenix, AZ

L T L Company, Inc., Rockford, IL

Lake Manufacturing Co., Inc., Wakefield, MA

Lakeside Manufacturing Company, Stevensville, MI

Lamb Machine & Tool Company, Indianapolis, IN

Lamina, Inc., Oak Park, MI

Lampin Corporation, Uxbridge, MA

Lancaster Machine Shop, Lancaster, TX

Lancaster Metal Products Company, Lancaster, OH

Lancaster Mold, Inc., Lancaster, PA

Lancaster Tool & Machine, Inc., Lancaster, PA

Land Specialties Manufacturing, Raytown, MO

Lane Enterprise, Rochester, NY

Lane Punch Corporation, Salisbury, NC

Laneko Engineering Company, Ft. Washington, PA

Laneko Roll Form, Inc., Hatfield, PA

Langenau Manufacturing Company, Cleveland, OH

Laser Automation, Inc., Chagrin Falls, OH

Laser Beam Technology, Hayward, CA

Laser Fare, Inc., Smithfield, RI

Laser Tool, Inc., Saegertown, PA

LaserFab Inc., Concord, CA

Lathe Tool Works, Inc., South San Francisco, CA

Lavigne Manufacturing, Inc., Cranston, RI

Layke Incorporated, Phoenix, AZ

Layke Tool & Manufacturing, Inc., Meadville, PA

LaBarge Products, Inc., St. Louis, MO

Ledford Engineering Company, Inc., Cedar Rapids, IA

Lee's Grinding, Inc., Cleveland, OH

Leech Industries, Inc., Meadville, PA

Lees Enterprise, Chatsworth, CA

Leese & Co., Inc., Greensburg, PA

Leggett & Platt, Inc., Whittier, CA

Leicester Die & Tool, Inc., Leicester, MA

Lenz Technology Inc., Mountain View, CA

Leonardi Manufacturing Co., Inc., Weedsport, NY

Lewis Aviation, Phoenix, AZ

Lewis Machine & Tool Co. Inc., Cuba, MO

Lewis Machine and Tool Company, Milan, IL

LeBlanc Grinding Company, Anaheim, CA

LeFiell Manufacturing Company, Santa Fe Springs, CA

Liberty Machine Inc., Fremont, CA

Liberty Precision Industries, Ltd., Rochester, NY

Libra Precision Machining, Tecumseh, MI

Light & Medium Fabricating, Inc., Willoughby, OH

Light Machines Corporation, Manchester, NH

Ligi Tool & Engineering, Inc., Pompano Beach, FL

Lilly Software Associates, Inc., Hampton, NH

Limmco, Inc., New Albany, IN

Linco, Inc., Phoenix, AZ

Lindberg Heat Treating, Paramount, CA

Linmark Machine Products, Inc., Union, MO

Little Rhody Machine Repair, Inc., Coventry, RI

Littlecrest Machine Shop, Inc., Houston, TX

Lloyd Company, Houston, TX

Lobart Company, Pacoima, CA

Loecy Precision Mfg., Mentor, OH

Lordon Engineering, Gardena, CA

Louis C. Morin Co. Inc., N. Billerica, MA

Loyal Machine Company, Inc., Chelsea, MA

Luick Quality Gage & Tool, Inc., Muncie, IN

Lunar Tool & Machinery Company, St. Louis, MO

Lunar Tool & Mold, Inc., North Royalton, OH

Lunquist Manufacturing Corp., Rockford, IL

Lux Manufacturing, Inc., Sunnyvale, CA

Lynn Welding Co. Inc., Newington, CT

Lyons Tool & Die Company, Meriden, CT

LAR-VEL Engineering, Rialto, CA

LOMA Automation Technologies, Inc., Louisville, KY

M & B Tool, Baldwinsville, NY

M & D Loe Manufacturing, Inc., Benicia, CA

M & H Engineering Company, Inc., Danvers, MA

M & H Tool & Die, Inc., Gadsden, AL

M & J Grinding & Tool Co., Holland, OH

M & J Valve Services, Inc., Lafayette, LA

M & S Holes Corporation, Roselle Park, NJ

M C I Tool & Die, Inc., Saginaw, MI

M C Mold & Machine, Inc., Tallmadge, OH

M D F Tool Corporation, North Royalton, OH

M F Engineering Co. Inc., Bristol, RI

M J C Machine Tooling, Hudson, NH

M J K Precision, Woodland Park, CO

M P Components, Grand Rapids, MI

M P E Machine Tool Inc., Corry, PA

M P T America Corporation, Valencia, CA

M P Technologies, Inc., Brecksville, OH

M S Willett, Inc., Cockeysville, MD

M T E, Inc., San Jose, CA

M T M Grinding, Thorndike, MA

M W Industries, Inc., Houston, TX

M. J. Machining, Inc., Sunnyvale, CA

M. R. Mold & Engineering Corp., Brea, CA

M-C Fabrication, Inc., Olathe, KS

M-Ron Corporation, Glendale, AZ

M-Tron Manufacturing Company, San Fernando, CA

Mac Machine and Metal Works, Inc., Connersville, IN

Mac-Mold Base, Inc., Romeo, MI

Machine Incorporated, Stoughton, MA

Machine Mastery, Santa Clara, CA

Machine Specialties, Inc., Greensboro, NC

Machine Tooling, Inc., Cleveland, OH

Machinist Cooperative, Gilroy, CA

Machinists, Inc., Seattle, WA

Macnab Manufacturing, Inc., Kent, WA

MacKay Manufacturing, Spokane, WA

Maddox Metal Works, Inc., Dallas, TX

Madgett Enterprises Inc., Milipitas, CA

Magdic Precision Tooling, Inc., East McKeesport, PA

Maghielse Tool Corporation, Grand Rapids, MI

Magic Manufacturing, Inc., Sunnyvale, CA

Magna Machine & Tool Company, New Castle, IN

Magnolia IronWorks, Inc., Lafayette, LA

Magnum Manufacturing Center, Inc., Colorado Springs, CO

Magnus Mfg. Corp., Shortsville, NY

Mahuta Tool Corp., Germantown, WI

Main Tool & Mfg. Co., Inc., Minneapolis, MN

Maine Machine Products, South Paris, ME

Mainline Machine, Inc., Broussard, LA

Majer Precision Engineering, Inc., Tempe, AZ

Major Tool & Machine, Inc., Indianapolis, IN

Makino, Mason, OH

Malmberg Engineering, Inc., Livermore, CA

Manda Machine Company, Inc., Dallas, TX

Manetek, Inc., Broussard, LA

Manheim Special Machine Shop, Manheim, PA

Mann Tool Company, Inc., Pacific, MO

Manor Research, Inc., Hayward, CA

Manufactured Technical Solutions, Jenison, MI

Manufacturers Tool & Die, Spencerport, NY

Manufacturing Machine Corp., Pawtucket, RI

Manufacturing Service Corp., West Hartford, CT

Marberry Machine, Inc., Houston, TX

Marco Manufacturing Company, Akron, OH

Marcy Machine, Inc., Grandview, MO

Mardon Tool & Die Company, Inc., Rochester, NY

Marena Industries, Inc., East Hartford, CT

Marini Tool & Die Company, Inc., Racine, WI

Maris Systems Design, Inc., Spencerport, NY

Mark Mold, Sanford, MI

Markham Machine Co. Inc., Akron, OH

Marlin Tool, Inc., Cuyahoga Falls, OH

Marquette Tool & Die Company, St. Louis, MO

Marshall Manufacturing Company, Minneapolis, MN

Martinek Manufacturing, Fremont, CA

Martinelli Machine, San Leandro, CA

Marton Tool & Die Company, Inc., Grand Rapids, MI

Masco Machine, Inc., Cleveland, OH

Mason Electric Company, San Fernando, CA

Massachusetts Machine Works Inc., Westwood, MA

Massey Industries, Inc., Houston, TX

Master Cutting & Engineering, Santa Fe Springs, CA

Master Industries Inc., Piqua, OH

Master Machine, Inc., Elkhart, IN

Master Precision Mold Technology, Greenville, MI

Master Precision Tool Corp., Sterling Heights, MI

Master Research & Manufacturing, San Fernando, CA

Master Tool & Die, Anaheim, CA

Master Tool & Mold, Inc., Grafton, WI

Mastercraft Mold, Inc., Phoenix, AZ

Mastercraft Precision, Inc., Milpitas, CA

Mastercraft Tool & Machine Co., Southington, CT

Mastercraft Tool Co., St. Louis, MO

Masterman Engineering, Kent, WA

Matthews Gauge, Inc., Santa Ana, CA

Maudlin & Son Manufacturing Co., Kemah, TX

Maxcor Manufacturing, Inc., Colorado Springs, CO

May Tool & Die, Inc., North Royalton, OH

May Tool & Mold Company, Inc., Kansas City, MO

Mayfran International, Cleveland, OH

MaTech Machining Technologies, Salisbury, MD

McAfee Tool & Die, Inc., Uniontown, OH

McCurdy Tool & Machine Inc., Caledonia, IL

McDanniels Machinery Company, Erie, PA

McDowell Enterprises, Inc., Elkhart, IN

McGill Manufacturing Company, Flint, MI

McGough & Kilguss, Providence, RI

McIvor Manufacturing, Inc., Buffalo, NY

McKee Carbide Tool Division, Olanta, PA

McKenzie Automation Systems, Inc., Rochester, NY

McNeal Enterprises, Inc., San Jose, CA

McNeill Manufacturing Company, Oakland, CA

McSwain Manufacturing Corp., Cincinnati, OH

Meadows Manufacturing Co., Inc., Sunnyvale, CA

Meadville Plating Company, Inc., Meadville, PA

Meadville Tool Grinding, Meadville, PA

Mechanical Manufacturing Corp., Sunrise, FL

Mechanical Metal Finishing Co., Gardena, CA

Mechanized Enterprises, Inc., Anaheim, CA

MechTronics of Arizona Corp., Phoenix, AZ

Medved Tool & Die Company, Milwaukee, WI

Menegay Machine & Tool Company, Canton, OH

Mercer Machine Company, Inc., Indianapolis, IN

Mercier Tool & Die Company, Canton, OH

Meriden Manufacturing, Meriden, CT

Merritt Tool Company, Inc., Kilgore, TX

Metal Cutting Specialists, Inc., Houston, TX

Metal Form Engineering, Redlands, CA

Metal Processors Inc., Stevensville, MI

Metal Tronics, Inc., Haverhill, MA

Metallon, Inc., Thomaston, CT

Metals USA, Flagg Steel Co., Inc., St. Louis, MO

Metalsa—Perfek, Novi, MI

Metco Manufacturing Company, Inc., Warrington, PA

Metplas, Inc., Natrona Heights, PA

Metric Machining, Monrovia, CA

Metric Precision Inc., Spartanburg, SC

Metro Manufacturing, Inc., Phoenix, AZ

Michigan Machining Inc., Mt. Morris, MI

Micro Chrome & Lapping, Inc., San Jose, CA

Micro Engineering Inc., Caledonia, MI

Micro Instrument Corporation, Rochester, NY

Micro Matic Tool, Inc., Youngstown, OH

Micro Precision Company, Houston, TX

Micro Precision Corporation, Lancaster, PA

Micro Punch & Die Company, Rockford, IL

Micro Surface Engineering, Inc., Los Angeles, CA

Micro Tool & Manufacturing, Inc., Meadville, PA

Micro-Tec, Chatsworth, CA

Micro-Tech Machine Inc., Newark, NY

Micro-Tronics, Inc., Tempe, AZ

Microfinish, Clayton, OH

Micropulse West, Inc., Tempe, AZ

Mid-Central Manufacturing, Inc., Wichita, KS

Mid-Continent Engineering, Inc., Minneapolis, MN

Mid-State Manufacturing, Inc., Milldale, CT

Mid-States Forging Die & Tool, Rockford, IL

Middle River Machine Services, Baltimore, MD

Midland Precision Machining, Inc., Tempe, AZ

Midway Mfg. Inc., Elyria, OH

Midwest Machine & Manufacturing Co, Muskegon, MI

Midwest Tool & Die Corporation, Fort Wayne, IN

Midwest Tool & Engineering Co., Dayton, OH

Mikana Manufacturing Co., Inc., San Dimas, CA

Mikron Machine, Inc., Cranesville, PA

Mikron Manufacturing, Inc., Colorado Springs, CO

Mil-Tool & Plastics Inc., Zephyrhills, FL

Milco Wire EDM, Inc., Huntington Beach, CA

Millat Industries Corp., Dayton, OH

Miller Equipment Corporation, Richmond, VA

Miller Machine & Design, Inc., Charlotte, NC

Miller Mold Company, Saginaw, MI

Millrite Machine Inc., Westfield, MA

Milrose Industries, Cleveland, OH

Miltronics, Inc., Painesville, OH

Milturn Corporation, Indianapolis, IN

Milwaukee Precision Corporation, Milwaukee, WI

Milwaukee Punch Corporation, Greendale, WI

Minco Tool & Mold Inc., Dayton, OH

Mission Tool & Manufacturing Co., Hayward, CA

Mitchell Machine, Inc., Springfield, MA

Mitchum Schaefer, Inc., Indianapolis, IN

Mittler Brothers Machine & Tool, Foristell, MO

Mod Tech Industries, Inc., Shawano, WI

Model Machine Company, Inc., Baltimore, MD

Model Mold & Machine Company, Noblesville, IN

Modern Industries Inc., Phoenix, AZ

Modern Machine Company, San Jose, CA

Modern Machine Company, Bay City, MI

Modern Mold, Inc., Grand Rapids, MI

Modern Technologies Corp., Xenia, OH

Modular Mining Systems, Inc., Tucson, AZ

Mold Threads Inc., Branford, CT

Moldcraft, Inc., Depew, NY

Monks Manufacturing Co., Inc., Wilmington, MA

Monsees Tool & Die, Inc., Rochester, NY

Montgomery Machine Company, Houston, TX

Moon Tool & Die Inc., Conneaut Lake, PA

Moore Gear Mfg. Co., Inc., Hermann, MO

Moore Machine, Inc., Walkerton, IN

Moore Quality Tooling, Inc., Dayton, OH

Morlin Incorporated, Erie, PA

Morton & Company, Inc., Wilmington, MA

Moseys' Production Machinists, Anaheim, CA

Moss Machine/Module, San Francisco, CA

Motor Machine Co., Inc., Edison, NJ

Mountain States Automation, Inc., Englewood, CO

Mt. Sterling Industries, Mt. Sterling, KY

Mueller Machine & Tool Company, Berkeley, MO

Mullen Industries Inc., St. Clair, MO

Muller Tool Inc., Cheektowaga, NY

Multi Dimensional Machining Inc., Englewood, CO

Multi-Tool, Inc., Saegertown, PA

Mustang-Major Tool & Die Co., Eden, NY

Mutual Mold & Tool L.L.C., Attalla, AL

Mutual Precision, Inc., West Springfield, MA

Mutual Tool & Die, Inc., Dayton, OH

Myers Industries, Akron, OH

Myers Precision Grinding Company, Warrensville Hts., OH

Myles Tool Co., Inc., Sanborn, NY

MAC Tool & Die Corporation, Meadville, PA

MRC Technologies, Buffalo, NY

MTI Engineering Corp./Mitutoyo, Huntington Beach, CA

N C Dynamics, Inc., Long Beach, CA

N D T Industries, Inc., Dayton, OH

N E T & Die Company, Inc., Fulton, NY

Nashville Machine Company, Inc., Nashville, TN

Natco Machine & Welding Co., Inc., Houston, TX

National Carbide Die, McKeesport, PA

National Flight Services, Glendale, AZ

National Jet Company, Inc., LaVale, MD

National Tool & Machine Co. Inc., East St. Louis, IL

Nationwide Precision Products, Rochester, NY

Neal Manufacturing, Inc., Greensboro, NC

Nel-Mac Tool & Mfg. Inc., McKinney, TX

Nelson Bros. & Strom Co., Inc., Racine, WI

Nelson Engineering, Garden Grove, CA

Nelson Grinding, Inc., Fullerton, CA

Nelson Precision Drilling Co., Glastonbury, CT

Nemes Machine Co., Cuyahoga, OH

Nerjan Development Company, Stamford, CT

New Age Plastics, Inc., San Jose, CA

New Century Fabricators, Inc., New Iberia, LA

New Century Remanufacturing, Inc., Santa Fe Springs, CA

New Cov Fabrication Inc., Rochester, NY

New England Die Co., Inc., Waterbury, CT

New England Precision Grinding, Holliston, MA

New Standard Corporation, York, PA

Newman Machine Company, Inc., Greensboro, NC

Newton Tool & Manufacturing Co., Swedesboro, NJ

Niagara Punch & Die Corporation, Buffalo, NY

Nicholson Precision Instruments, Gaithersburg, MD

Nifty Bar, Inc., Penfield, NY

Niles Machine & Tool Works, Inc., Newark, CA

Nixon Tool Co., Inc., Richmond, IN

Noble Tool Corporation, Dayton, OH

Norbert Industries, Inc., Sterling Heights, MI

Nordon Tool & Mold, Inc., Rochester, NY

Noremac Manufacturing Corp., Westboro, MA

Norfil Manufacturing, Inc., Pacific, WA

Norman Noble, Inc., Cleveland, OH

Normike Industries, Inc., Plainville, CT

North Canton Tool Company, Inc., Canton, OH

North Central Tool & Die, Inc., Houston, TX

North Coast Tool & Mold Corp., Cleveland, OH

North Easton Machine Co., Inc., North Easton, MA

North Florida Tool Engineering, Jacksonville, FL

Northeast E D M, Newburyport, MA

Northeast Manufacturing Co., Inc., Stoneham, MA

Northeast Tool & Manufacturing, Indian Trail, NC

Northern Machine Tool Company, Muskegon, MI

Northland Extension Drills, Grove City, MN

Northmont Tool & Gage Inc., Clayton, OH

Northwest Machine Works, Inc., Grand Junction, CO

Northwest Tool & Die Company, Grand Rapids, MI

Northwest Tool & Die, Inc., Saegertown, PA

Northwest Tool Corporation, Tucson, AZ

Northwood Industries, Inc., Perrysburg, OH

Norton Advanced Ceramics, White House, TN

Norv's Molds, Inc., Nyssa, OR

Norwood Tool Company, Dayton, OH

Nova Manufacturing Company, North Hollywood, CA

Now-Tech Industries Inc., Lackawanna, NY

Nu-Tech Industries, Grandview, MO

Nu-Tool Industries, Inc., North Royalton, OH

Numeric Machine, Fremont, CA

Numeric Machining Co., Inc., West Springfield, MA

Numerical Precision, Inc., Wheeling, IL

Numerical Productions, Inc., Indianapolis, IN

Numet Machine, Stratford, CT

NuTec Tooling Systems, Inc., Meadville, PA

O & S Machine Company, Inc., Latrobe, PA

O-A, Inc., Agawam, MA

O A R Moldworks, Providence, RI

O E M Industries, Inc., Dallas, TX

O E M, Inc., Corvallis, OR

O-D Tool & Cutter Inc., Mansfield, MA

O'Keefe Ceramics, Woodland Park, CO

O'Neal Tool & Machine Co., Inc., DeSoto, MO

Oakley Die & Mold Company, Inc., Mason, OH

Obars Machine & Tool Company, Toledo, OH

Oberg Industries Inc., Freeport, PA

Oconee Machine & Tool Company, Westminster, SC

Oconnor Engineering Laboratories, Costa Mesa, CA

Ohio Gasket & Shim Company, Akron, OH

Ohio Transitional Machine & Tool, Toledo, OH

Ohlemacher Mold & Die, Strongsville, OH

Oilfield Die Manufacturing Co., Lafayette, LA

Okuma America Corporation, Charlotte, NC

Olson Mfg. & Distribution Inc., Shawnee, KS

Omax Corporation, Kent, WA

Omega One, Inc., Maple Heights, OH

Omega Tool, Inc., Menomonee Falls, WI

Omni Tool, Inc., Winston Salem, NC

Orange County Grinding, Anaheim, CA

Orchard Machine, Inc., Byron Center, MI

Orix Credit Alliance, Inc., Pasadena, CA

Osborn Products, Inc., Phoenix, AZ

Osley & Whitney, Inc., Westfield, MA

Ott Brothers Machine Company, Wichita, KS

Overland Bolling, Dallas, TX

Overton & Sons Tool & Die Co., Mooresville, IN

Overton Corporation, Willoughby, OH

OEM Controls Inc., Shelton, CT

P & A Tool & Die, Inc., Rochester, NY

P & N Machine Company, Inc., Houston, TX

P & P Mold & Die, Inc., Tallmadge, OH

P & R Industries, Inc., Rochester, NY

P D Q Machine & Tool Inc., Machesney Park, IL

P. J. M. Machine Inc., North Canton, OH

P. Tool & Die Company, Inc., N. Chili, NY

P-K Tool & Manufacturing Company, Chicago, IL

Pace Precision Products, Inc., Dubois, PA

Pacific Bearing Company, Rockford, IL

Pacific Precision Machine, Inc., San Carlos, CA

Pacific Tool & Die, Inc., Brunswick, OH

Pacific Tool Corporation, Englewood, CO

Pahl Tool Services, Cleveland, OH

Palma Tool & Die Company, Inc., Lancaster, NY

Palmer Machine Company Inc., Conway, NH

Palmer Manufacturing Company, Malden, MA

Parallax, Inc., Largo, FL

Paramount Machine & Tool Corp., Fairfield, NJ

Park Hill Machine, Inc., Lancaster, PA

Parker Plastics Corporation, Pittsburgh, PA

Parr-Green Mold and Machine Co., North Canton, OH

Parris Tool & Die Company, Goodlettsville, TN

Parrish Machine, Inc., South Bend, IN

Part-Rite, Inc., Cleveland, OH

Pasco Tool & Die, Inc., Meadville, PA

Patco Machine & Fab, Inc., Houston, TX

Path Technologies, Inc., Mentor, OH

Patkus Machine Company, Rockford, IL

Patriot Machine, Inc., St. Charles, MO

Patriot Precision Products, North Canton, OH

Patten Tool & Engineering, Inc., Kittery, ME

Paul E. Seymour Tool & Die Co., North East, PA

Peerless Precision, Inc., Westfield, MA

Peffen Machine Company, Nashville, TN

Peko Precision Products, Rochester, NY

Pell Engineering & Manufacturing, Pelham, NH

Penco Precision, Fontana, CA

Pendleton Tool Company, Inc., Erie, PA

Peninsula Screw Machine Products, Belmont, CA

Penn State Tool & Die Corp., North Huntingdon, PA

Penn United Tech, Inc., Saxonburg, PA

Pennoyer-Dodge Company, Glendale, CA

Pennsylvania Crusher, Cuyahoga Falls, OH

Pennsylvania Tool & Gages, Inc., Meadville, PA

Perfection Mold & Machine Co., Akron, OH

Perfection Tool & Mold Corp., Dayton, OH

Perfecto Tool & Engineering Co., Anderson, IN

Perfekta, Inc., Wichita, KS

Performance Grinding & Manufacturing, Inc., Tempe, AZ

Perry Tool & Research Inc., Hayward, CA

Petersen Precision Engineering, LLC, Redwood City, CA

Peterson Jig & Fixture, Inc., Rockford, MI

Pettey Machine Works, Inc., Trinity, AL

Petty Enterprises, Hollister, CA

Phil-Coin Machine & Tool Co., Hudson, MA

Philips Machining Company, Inc., Coopersville, MI

Philips Manufacturing Technology, South Plainfield, NJ

Phoenix Gear, Inc., Phoenix, AZ

Phoenix Grinding, Phoenix, AZ

Phoenix Precision Pattern Corp., Mesa, AZ

Phoenix Tool & Gage, Inc., Phoenix, AZ

Phoenix, Inc., Seekonk, MA

Piece-Maker Company, Troy, MI

Pierce Products, Inc., Cleveland, OH

Pierson Precision Inc., Campbell, CA

Pinehurst Tool & Die, Conneaut Lake, PA

Pinnacle Engineering Co., Inc., Manchester, MI

Pinnacle Manufacturing Co., Inc., Chandler, AZ

Pinnacle Tool & Engineering, Cleveland, OH

Pioneer Industries, Seattle, WA

Pioneer Motor Bearing Company, South San Francisco, CA

Pioneer Precision Grinding, Inc., West Springfield, MA

Pioneer Tool & Die Company, Akron, OH

Pioneer Tool & Die, Inc., Meadville, PA

Pioneer Tool Die & Machine Co., Ivyland, PA

Piper Plastics, Inc., Chandler, AZ

Pitt-Tex, Latrobe, PA

Plainfield Stamping Illinois, Inc., Plainfield, IL

Plano Machine & Instrument Inc., Gainesville, TX

Plas Tool Co., Niles, IL

Plastic Mold Technology Inc., Grand Rapids, MI

Plastipak Packaging, Inc., Medina, OH

PlastiFab Inc., Louisville, CO

Plating Technology, Inc., Columbus, OH

Pleasant Precision, Inc., Kenton, OH

Pleasanton Tool and Manufacturing ,Pleasanton, CA

Plesh Industries, Inc., Buffalo, NY

Pocal Industries Inc., Scranton, PA

Pol-Tek Industries, Ltd., Cheektowaga, NY

Polaris Machining, Inc., Marysville, WA

Polynetics, Inc., Fullerton, CA

Polytec Products Corporation, Menlo Park, CA

Ponderosa Industries, Inc., Denver, CO

Popp Machine & Tool, Inc., Louisville, KY

Port City Machine & Tool Company, Muskegon Heights, MI

Portage Knife Company, Inc., Mogadore, OH

Post Enterprises, Inc., Wichita, KS

Post Products, Inc., Kent, OH

Powder Metallurgy Company, Lewisville, TX

Powers Bros. Machine, Inc., Montebello, CA

Powill Manufacturing & Engineering, Inc., Phoenix, AZ

Practical Machine Company, Barberton, OH

Pre Tech Manufacturing, Bensenville, IL

Pre-Mec Corporation, Clinton Township, MI

Precise Products Corporation, Minneapolis, MN

Precise Technologies Inc., Largo, FL

Precise Technology, Inc., N. Versailles, PA

Precise Tool & Die, Inc., Leechburg, PA

Precision Aircraft Components, Dayton, OH

Precision Aircraft Machining, Sun Valley, CA

Precision Automated Machining, Englewood, CO

Precision Automation Co., Inc., Clarksville, IN

Precision Balancing & Analyzing, Mentor, OH

Precision Boring Company, Detroit, MI

Precision CNC Products, Canyon Country, CA

Precision Deburring Enterprises, Sun Valley, CA

Precision Die & Stamping Inc., Tempe, AZ

Precision Engineering & Mfg. Co., Haymarket, VA

Precision Engineering, Inc., Uxbridge, MA

Precision Gage & Tool Company, Dayton, OH

Precision Gage, Inc., Tempe, AZ

Precision Grinding & Mfg. Corp., Rochester, NY

Precision Grinding Inc., Phoenix, AZ

Precision Grinding, Inc., Birmingham, AL

Precision Identity Corporation, Campbell, CA

Precision Industries, Inc., Providence, RI

Precision Industries, Inc., Baton Rouge, LA

Precision Lasers, Rochester, NY

Precision Machine & Engineering, Phoenix, AZ

Precision Machine & Instrument, Houston, TX

Precision Machine & Tool Co., Longview, TX

Precision Machine Company, Lancaster, PA

Precision Machine Rebuilding, Rogers, MN

Precision Manufacturing, Grand Junction, CO

Precision Metal Crafters, Ltd., Greensburg, PA

Precision Metal Fabrication, Dayton, OH

Precision Metal Tooling, Inc., San Leandro, CA

Precision Mold & Engineering, Warren, MI

Precision Mold Base Corporation, Tempe, AZ

Precision Mold Welding, Inc., Little Rock, AR

Precision Mold, Inc., Kent, WA

Precision Piece Parts Inc., Mishawaka, IN

Precision Products Inc., Greenwood, IN

Precision Resource, Huntington Beach, CA

Precision Resource Tool & Machine, Shelton, CT

Precision Resources, Hawthorne, CA

Precision Specialists, Inc., West Berlin, NJ

Precision Specialties, San Jose, CA

Precision Stamping & Tool, Inc., Irvine, CA

Precision Stamping, Inc., Farmers Branch, TX

Precision Technology, Inc., Chandler, AZ

Precision Tool & Die, Inc., Derry, NH

Precision Tool & Mold, Inc., Clearwater, FL

Precision Tool Work, Inc., New Iberia, LA

Precision Valve, Inc., Reno, NV

Precision Wire Cut Corporation, Waterbury, CT

Precision Wire EDM Service Inc., Grand Rapids, MI

Preferred Grinding Co., Inc., Dallas, TX

Preferred Tool & Die Co., Inc., Comstock Park, MI

Preferred Tool Company, Inc., Seymour, IN

Prescott Aerospace, Inc., Prescott Valley, AZ

Pressco Products, Kent, WA

Prestige Mold Incorporated, Rancho Cucamonga, CA

Price Products, Inc., Escondido, CA

Pride, Champlin, MN

Prima Die Castings, Inc., Clearwater, FL

Prime-Co Tool Inc., East Rochester, NY

Primeway Tool & Engineering Co., Madison Heights, MI

Pro-Mold, Inc., Spencerport, NY

Pro-Tech Machine, Inc., Burton, MI

Process Equipment Company, Tipp City, OH

Product Engineering Company, Columbus, IN

Production Saw Works, Inc., North Hollywood, CA

Production Tool & Mfg. Co., Portland, OR

Producto Machine Company, Bridgeport, CT

Professional Grinding, Inc., Akron, OH

Professional Instruments Co., Inc., Hopkins, MN

Professional Machine & Tool Co., Gallatin, TN

Professional Machine & Tool, Inc., Wichita, KS

Professional Machine Works, Inc., Houston, TX

Proficient Machining Co., Inc., Mentor, OH

Profile Grinding, Inc., Cleveland, OH

Proformance Manufacturing, Inc., Corona, CA

Progressive Concepts Machining, Pleasanton, CA

Progressive Machine & Design, LLC, Victor, NY

Progressive Metallizing & Machine Company, Inc., Akron, OH

Progressive Tool & Die, Inc., Gardena, CA

Progressive Tool Company, Waterloo, IA

Promax Tool Co., Rancho Cordova, CA

Prompt Machine Products, Inc., Chatsworth, CA

Proper Cutter, Inc., Guys Mills, PA

Proper Mold & Engineering, Inc., Center Line, MI

Prospect Mold Inc., Cuyahoga Falls, OH

Proteus Manufacturing Co., Inc., Woburn, MA

Proto Machine & Manufacturing, Kent, OH

Proto-Cam, Inc., Grand Rapids, MI

Proto-Design, Inc., Redmond, WA

Protonics Engineering Corp., Cerritos, CA

Prototype & Plastic Mold Co., Middletown, CT

ProMold, Inc., Cuyahoga Falls, OH

Puehler Tool Company, Valley View, OH

Puget Plastics Corporation, Tualatin, OR

Pullbrite, Inc., Fremont, CA

Punch Press Products, Inc., Los Angeles, CA

Punchcraft Company—Subsidiary of MascoTech, Inc., Warren, MI

PDT Tooling, Inc., Lincolnshire, IL

PMR, Inc., Avon, OH

PQ Enterprise, L.L.C., Grand Rapids, MI

PR Machine Works, Inc., Mansfield, OH

Q K Mold & Manufacturing, Inc., Kent, OH

Q M C Technologies, Inc., Depew, NY

Qualfab Machining, Redwood City, CA

Quality Centerless Grinding Corp., Middlefield, CT

Quality Engineering Services, Wallingford, CT

Quality Grinding & Machining, Bridgeport, CT

Quality Machine Engineering, Inc., Santa Rosa, CA

Quality Machine Inc., Plaistow, NH

Quality Machining Technology, Inc., Oakdale, CA

Quality Mold & Die, Inc., Santa Ana, CA

Quality Mold & Engineering, Baroda, MI

Quality Mold Shop, Inc., McMinnville, TN

Quality Precision, Inc., Hayward, CA

Quality Tool Company, Toledo, OH

Quantum Manufacturing, Inc., Burbank, CA

Quartztek Incorporated, Phoenix, AZ

Quick Turn Machine Co. Inc., Windsor Locks, CT

Quick-Way Stampings, Euless, TX

R & D Machine Shop, Dallas, TX

R & D Specialty/Manco, Phoenix, AZ

R & D Tool & Engineering, Lee's Summit, MO

R & G Precision Tool Inc., Thomaston, CT

R & H Manufacturing Inc., Kingston, PA

R & J Tool, Inc., Brookville, OH

R & M Machine Tool, Freeland, MI

R & M Manufacturing Company, Niles, MI

R & M Mold Manufacturing Co., Bloomsbury, NJ

R & R Precision Machine, Inc., Wichita, KS

R & S EDM, Inc., W. Springfield, MA

R & S Machining, Inc., Oakville, MO

R D C Machine, Inc., Santa Clara, CA

R Davis EDM, Anaheim, CA

R E F Machine Company, Inc., Middlefield, CT

R F Cook Manufacturing Co., Stow, OH

R G F Machining Technologies, Canon City, CO

R J S Corporation, Akron, OH

R M I, Van Nuys, CA

R Meschkat Precision Machining, Valencia, CA

R O C Carbon Company, Houston, TX

R S Precision Industries, Inc., Farmingdale, NY

R T R Slotting & Machine Inc., Cuyahoga Falls, OH

R W Machine, Inc., Houston, TX

R. W. Smith Company, Inc., Dallas, TX

Rainbow Tool & Machine Co., Inc., Gadsden, AL

Raloid Corporation, Reisterstown, MD

Ralph Stockton Valve Products, Houston, TX

Ram Tool, Inc., Grafton, WI

Ranger Tool & Die Company, Saginaw, MI

Rapid-Line Inc., Grand Rapids, MI

Rapidac Machine Corporation, Rochester, NY

Ratnik Industries, Inc., Victor, NY

Rawlings Engineering, Macon, GA

Ray Paradis Machine, Inc., Jackson, CA

Re-Del Engineering, Campbell, CA

Realco Diversified, Inc., Meadville, PA

Reardon Machine Co., Inc., St. Joseph, MO

Reata Engineering & Machine, Englewood, CO

Reber Machine & Tool Company, Muncie, IN

Rectack of America, Los Angeles, CA

Reed Instrument Company, Houston, TX

Reed Precision Microstructures, Santa Rosa, CA

Reese Machine Company, Inc., Ashtabula, OH

Reichert Stamping Company, Toledo, OH

Reid Industries, Inc., Roseville, MI

Reitz Tool & Die Company, Inc., Walbridge, OH

Reitz Tool, Inc., Cochranton, PA

Reliable EDM, Inc., Houston, TX

Remarc Manufacturing Inc., Hayward, CA

Remmele Engineering, Inc., New Brighton, MN

Remtex, Inc., Longview, TX

Reny & Company Inc., El Monte, CA

Repairtech International, Inc., Van Nuys, CA

Repko Tool Inc., Meadville, PA

Republic Industries, Louisville, KY

Republic-Lagun, Carson, CA

Research Tool Inc., East Haven, CT

Reuther Mold & Manufacturing Co., Cuyahoga Falls, OH

Revtek, Portland, OR

Reynolds Manufacturing Co., Inc., Rock Island, IL

Rhode Island Centerless, Inc., Johnston, RI

Rhode Island Precision Co., Inc., Providence, RI

Rich Tool & Die Company, Scarborough, ME

Richard Manufacturing Company, Milford, CT

Richard O. Schulz Company, Elmwood Park, IL

Richard Tool & Die Corporation, New Hudson, MI

Richard's Grinding, Inc., Cleveland, OH

Richards Machine Tool Company, Lancaster, NY

Richsal Corporation, Elyria, OH

Rick Sanford Machine Company, San Leandro, CA

Rickman Machine Company, Wichita, KS

Rid-Lom Precision Tool Corp., Rochester, NY

Ridge Machine & Welding Company, Toronto, OH

Riggins Engineering, Inc., Van Nuys, CA

Right Tool & Die, Inc., Toledo, OH

Rima Enterprises, Huntington Beach, CA

Ripley Machine Company, Inc., Akron, OH

Rite-Way Industries Inc., Louisville, KY

Riverview Machine Company, Inc., Holyoke, MA

Riviera Tool Company, Grand Rapids, MI

Robert C. Reetz Company, Inc., Pawtucket, RI

Roberts Aerospace Mfg. & Eng., Gardena, CA

Roberts Tool & Die Company, Chillicothe, MO

Roberts Tool Company, Inc., Northridge, CA

Robrad Tool & Engineering, Mesa, AZ

Rochester Gear, Inc., Rochester, NY

Rochester Manufacturing, Wellington, OH

Rockburl Industries Inc., Rochester, NY

Rockford Process Control, Inc., Rockford, IL

Rockford Tool & Manufacturing, Rockford, IL

Rockford Toolcraft, Inc., Rockford, IL

Rockhill Machining Industries, Barberton, OH

Rockstedt Tool & Die, Brunswick, OH

Rocon Manufacturing Corporation, Rochester, NY

Rogers Associates Machine Tool, Rochester, NY

Rogers Enterprises, Rochester, NY

Romac Electronics, Inc., Plainview, NY

Romold Inc., Rochester, NY

Ron Grob Company, Loveland, CO

Ron Mills and Company, Walnut, CA

Ronal Tool Company, Inc., York, PA

Ronart Industries, Inc., Detroit, MI

Ronlen Industries, Inc., Brunswick, OH

Rons Racing Products, Inc., Tucson, AZ

Rovi Products Incorporated, Simi Valley, CA

Royal Wire Products, Inc., N. Royalton, OH

Royalton Manufacturing, Inc., Cleveland, OH

Royster's Machine Shop, LLC, Henderson, KY

Rozal Industries, Inc., Farmingdale, NY

Rubbermaid, Inc.—Mold Division, Wooster, OH

Ruoff & Sons, Inc., Runnemede, NJ

Russing Machining Corp., Glendale, CA

Ryan Industries Inc., York, PA

RB Machine Co., Inc., Phoenix, AZ

REO Hydro-Pierce Inc., Detroit, MI

RREN Manufacturing & Engineering, Springfield, MA

S & B Jig Grinding, Inc., Loves Park, IL

S & B Tool & Die Co., Inc., Lancaster, PA

S & R CNC Machining, Arleta, CA

S & R Precision Company, LLC, Fremont, CA

S C Manufacturing, Akron, OH

S D S Machine, Inc., Hayward, CA

S G S Tool Company, Munroe Falls, OH

S L P Machine, Inc., Ham Lake, MN

S M K Fabricators, Inc., May, TX

S P M/Anaheim, Anaheim, CA

S P S Technologies, Santa Ana, CA

S. C. Machine, Chatsworth, CA

S.M.G. LLC, Buffalo, NY

Saeilo Manufacturing Industries, Blauvelt, NY

Safety Line, Oakland, CA

Sage Machine & Fabricating, Houston, TX

Sagehill Engineering, Inc., Menlo Park, CA

Saginaw Products Corporation, Saginaw, MI

Salamon Manufacturing Inc., Middletown, CT

Saliba Industries, Inc., Highland, IL

Salomon Smith Barney, Washington, DC

Samax Precision, Inc., Sunnyvale, CA

San Diego Swiss Machining, Inc., Chula Vista, CA

San Val Grinding Company, Burbank, CA

Sanders Tool & Mould Company, Hendersonville, TN

Sandor Tool & Manufacturing Co., Lawrence, MA

Sandy Bay Machine, Rockport, MA

Santin Engineering, Inc., West Peabody, MA

Satran Technical Enterprises, Mayer, AZ

Sattler Machine Products, Inc., Sharon Center, OH

Sawing Services Co., Chatsworth, CA

Sawtech, Lawrence, MA

Schaffer Grinding Company, Inc., Montebello, CA

Schill Corp., Toledo, OH

Schlitter Tool, Warren, MI

Schmald Tool & Die Inc., Burton, MI

Schmiede Corporation, Tullahoma, TN

Schneider & Marquard, Inc., Newton, NJ

Schober's Machine & Engineering, Alhambra, CA

Schoitz Engineering, Inc., Waterloo, IA

Schroeder Tool & Die Corporation, Van Nuys, CA

Schuetz Tool & Die, Inc., Hiawatha, KS

Schulze Tool Company, Independence, MO

Schwab Machine, Inc., Sandusky, OH

Scott County Machine & Tool Co., Scottsburg, IN

Seabury & Smith, Inc., Atlanta, GA

Sebewaing Tool & Engineering Co., Sebewaing, MI

Seemcor Inc., Englewood, NJ

Select Industrial Systems Inc., Fairborn, OH

Select Tool & Die—Tool Div., Dayton, OH

Select Tool & Eng., Inc., Elkhart, IN

SelfLube, Coopersville, MI

Selzer Tool & Die, Inc., Elyria, OH

Sematool Mold & Die Co., Santa Clara, CA

Serco, Covina, CA

Serrano Industries Inc., Bellflower, CA

Service Manufacturing and, Anaheim, CA

Service Tool & Die, Inc., Henderson, KY

Setters Tools, Inc., Piedmont, SC

Sharon Center Mold & Die, Sharon Center, OH

Shaw Industries, Inc., Franklin, PA

Shear Tool, Inc., Saginaw, MI

Sheets Tool & Manufacturing, Inc., Saegertown, PA

Shelby Engineering Company, Inc., Indianapolis, IN

Sherer Manufacturing, Clearwater, FL

Sherlock Machine Company, Clearwater, FL

Sherman Tool & Gage, Erie, PA

Shiloh Industries, Wellington, OH

Shookus Special Tools, Inc., Raymond, NH

Siam Precision, Inc., Phoenix, AZ

Sibley Machine & Foundry Corp., South Bend, IN

Sieger Engineering, Inc., S. San Francisco, CA

Sigma Precision Mfg., Inc., Aston, PA

Signa Molds & Engineering, Sylmar, CA

Signal Machine Company, New Holland, PA

Silicon Valley Mfg., Fremont, CA

Simons & Susslin Manufacturing, San Jose, CA

Sipco, Inc., Meadville, PA

Sirius Enterprises, Inc., Dallas, TX

Sirois Tool Co. Inc., Berlin, CT

Sisson Engineering Corp., Northfield, MA

Six Sigma, Louisville, KY

Ski-Way Machine Products Company, Euclid, OH

Skillcraft Machine Tool Company, West Hartford, CT

Skulsky, Inc., Gardena, CA

Skyfab, Inc., Denton, TX

Skyline Manufacturing Corp., Nashville, TN

Skylon Mold & Machining, Sugar Grove, PA

Skyway Manufacturing Corporation, Phoenix, AZ

Smith-Renaud, Inc., Cheshire, CT

Smith's Machine, Cottondale, AL

Smithfield Manufacturing, Inc., Clarksville, TN

Snyder Systems, Benicia, CA

Solar Tool & Die, Inc., Kansas City, MO

Sonic Machine & Tool, Inc., Tempe, AZ

Sonoma Precision Mfg. Co., Santa Rosa, CA

Sonora Precision Molds, Inc., Mi Wuk Village, CA

South Bay Machining, Santa Clara, CA

South Bend Form Tool Company, South Bend, IN

South Eastern Machining, Inc., Piedmont, SC

Southampton Manufacturing, Inc., Feasterville, PA

Southbridge Tool & Manufacturing, Dudley, MA

Southeastern Technology, Inc., Murfreesboro, TN

Southern Mfg. Technologies Inc., Tampa, FL

Southwest Industrial Services, Ft. Worth, TX

Southwest Manufacturing, Inc., Wichita, KS

Southwest Metalcraft Corporation, Tucson, AZ

Southwest Mold, Inc., Tempe, AZ

Southwest Precision Machining, Inc., North Royalton, OH

Southwest Replacement Parts, Stafford, TX

Space City Machine & Tool Co., Houston, TX

Spalding & Day Tool & Die Co., Louisville, KY

Spark Technologies, Inc., Schenley, PA

Spartak Products Inc., Houston, TX

Spartan Manufacturing Company, Garden Grove, CA

Special Tool & Engineering Corp., Indianapolis, IN

Specialty Machine & Hydraulics, Pleasantville, PA

Specialty Machines, Inc., Dayton, OH

Spectra-Physics Lasers Inc., Oroville, CA

Spenco Machine & Manufacturing, Temecula, CA

Spike Industries, North Lima, OH

Spin Pro Inc., Sunnyvale, CA

Spiral Grinding Company, Culver City, CA

Spirex Southwest, Gainesville, TX

Springfield Manufacturing, LLC, Clover, SC

Springfield Tool & Die, Inc., Greenville, SC

Sprint Tool & Die Inc., Meadville, PA

Spun Metals, Inc., Phoenix, AZ

St. Louis Tool & Mold, Valley Park, MO

Stadco, Los Angeles, CA

Standard Jig Boring Service, Inc., Akron, OH

Standard Machine Inc., Cleveland, OH

Standard Welding & Steel, Medina, OH

Stanek Tool Corporation, New Berlin, WI

Stanley Machining & Tool Corp., Carpentersville, IL

Star Tool & Die, Inc., Elkhart, IN

Star Tool & Engineering, Inc., Redwood City, CA

Starn Tool & Manufacturing Co., Meadville, PA

State Industrial Products, Inc., Phoenix, AZ

Stauble Machine & Tool Company, Louisville, KY

Stedcraft Inc., Torrington, CT

Steiner Fabrication, Phoenix, AZ

Stelted Manufacturing, Inc., Tempe, AZ

Sterling Engineering Corporation, Winsted, CT

Sterling Tool Company, Racine, WI

Stevens Manufacturing Co., Inc., Milford, CT

Stewart Manufacturing Company, Phoenix, AZ

Stieg Grinding Corporation, Rockford, IL

Stillion Industries, Ann Arbor, MI

Stillwater Technologies, Inc., Troy, OH

Stines' Machine, Inc., Vista, CA

Stone Machine & Tool, Inc., North Royalton, OH

Stoney Crest Regrind Service, Bridgeport, MI

Stott Tool & Machine Company, Amityville, NY

Streamline Tooling Systems, Muskegon, MI

Strobel Machine, Inc., Worthington, PA

Studwell Engineering, Inc., Sun Valley, CA

Subsea Ventures Inc., Houston, TX

Suburban Manufacturing Company, Euclid, OH

Summit Machine Company, Scottdale, PA

Summit Precision, Inc., Phoenix, AZ

Summit Tool & Mold Inc., Dayton, OH

Sun E.D.M., Inc., Tempe, AZ

Sun Polishing Corporation, North Royalton, OH

Sun Tool Company, Houston, TX

Sun Valley Tool, Inc., Tempe, AZ

Sunbelt Plastics, Inc., Frisco, TX

Sunrise Tool & Die, Inc., Henderson, KY

Sunset Tool Inc., Saint Joseph, MI

Super Finishers II, Phoenix, AZ

Superior Die Set Corporation, Oak Creek, WI

Superior Die Tool Machine Co., Columbus, OH

Superior Gear Box Company, Stockton, MO

Superior Jig, Inc., Anaheim, CA

Superior Mold Company, Ontario, CA

Superior Mold, Inc., Clearwater, FL

Superior Roll Forming Company, Valley City, OH

Superior Thread Rolling Company Inc., Arleta, CA

Superior Tool & Die Company, Bensalem, PA

Superior Tool & Die Company, Inc., Elkhart, IN

Superior Tool & Manufacturing, Branchburg, NJ

Superior Tool, Inc., Willow Street, PA

Supreme Tool & Die Company, Fenton, MO

Surface Manufacturing, Auburn, CA

Svedala Pumps & Process, Colorado Springs, CO

Swenton Tool & Die Company, Phoenix, NY

Swiss Specialties, Inc., Bohemia, NY

Swissco, Inc., Bell Gardens, CA

Swissline Precision Mfg. Inc., Cumberland, RI

Synergis Technologies Group, Grand Rapids, MI

Synergy Machine, Inc., Kent, WA

Syst-A-Matic Tool & Design, Meadville, PA

Systems 3, Inc., Tempe, AZ

SEPCO-ERIE, Erie, PA

SKS Die Casting and Machining, Alameda, CA

T & S Industrial Machining Corp., Woburn, MA

T C I Precision Metals, Gardena, CA

T J Tool and Mold, Guys Mills, PA

T M Industries, Inc., East Berlin, CT

T M Machine & Tool, Inc., Toledo, OH

T M S Inc., Lincoln, RI

T R Jones Machine Company, Inc., Crystal Lake, IL

T. J. Karg Company, Inc., Akron, OH

T-K & Associates, Inc., La Porte, IN

T-M Manufacturing Corporation, Sunnyvale, CA

Tag Engineering, Inc., Tucson, AZ

Tait Design & Machine Company Inc., Manheim, PA

Talbar, Inc., Meadville, PA

Talcott Machine Products, Inc., Meriden, CT

Talent Tool & Die, Inc., Berea, OH

Tana Corporation, Toledo, OH

Tangent Tool Inc., Fraser, MI

Tanner Oil Tools Inc., Houston, TX

Tapco USA Inc., Loves Park, IL

Target Precision, Meadville, PA

Taurus Tool & Engineering, Inc., Muncie, IN

Tebben Enterprises, Clara City, MN

Tech Industries, Inc., Cleveland, OH

Tech Manufacturing Company, Wright City, MO

Tech Mold, Inc., Tempe, AZ

Tech Ridge, Inc., South Chelmsford, MA

Tech Tool & Mold, Inc., Meadville, PA

Tech Tool and Machine Inc., Toledo, OH

Tech Tool, Inc., Detroit, MI

Tech-Etch, Inc., Plymouth, MA

Tech-Machine, Inc., Colorado Springs, CO

Techmetals, Inc., Dayton, OH

Techni-Cast Corporation, South Gate, CA

Techni-Products, Inc., East Longmeadow, MA

Technics 2000 Inc., Olathe, KS

Technodic, Inc., Providence, RI

Tecomet Thermo Electron, Tempe, AZ

Tedco, Inc., Cranston, RI

Teke Machine Corp., Rochester, NY

Tell Tool, Inc., Westfield, MA

Temco Corporation, Danvers, MA

Tenk Machine & Tool Company, Cleveland, OH

Tenneco Automotive/Monroe Auto, Hartwell, GA

Tennessee Metal Works, Inc., Nashville, TN

Tennessee Tool Corporation, Charlotte, TN

Terrell Manufacturing Inc., Strongsville, OH

Testand Corporation, Pawtucket, RI

Tetco, Inc., Plainville, CT

Teter Tool & Die, Inc., La Porte, IN

Texas Honing, Inc., Pearland, TX

Thaler Machine Company, Dayton, OH

Thayer Aerospace, Wichita, KS

The Bechdon Company, Inc., Upper Marlboro, MD

The Budd Company, Shelbyville, KY

The Chesapeake Machine Co., Baltimore, MD

The Die Works Inc., Hillsboro, MO

The Foster Group, Rochester, NY

The Goforth Corp., Fremont, CA

The Hanson Group, LTD., Ludlow, MA

The Sherman Corporation, Inglewood, CA

The Sullivan Corporation, Hartland, WI

The Timken Company, Canton, OH

The Will-Burt Company, Orrville, OH

Therm, Inc., Ithaca, NY

Thiel Tool & Engineering Co., St. Louis, MO

Thomas Machine Works, Inc., Newburyport, MA

Thompson Gundrilling, Inc., Van Nuys, CA

Thor Tool Corporation, San Leandro, CA

Thornhurst Manufacturing, Inc., Tampa, FL

Three-Way Pattern, Inc., Wichita, KS

Tidewater Machine Company, White Plains, MD

Time Machine & Stamping, Inc., Phoenix, AZ

Timon Tool & Die Co., Toledo, OH

Tipco Punch, Inc., Hamilton, OH

Tipp Machine & Tool, Inc., Tipp City, OH

Tisza Industries, Inc., Niles, MI

Titan, Inc., Sturtevant, WI

Toledo Blank, Inc., Toledo, OH

Tolerance Masters, Inc., Circle Pines, MN

Tomak Precision, Lebanon, OH

TomKen Tool & Engineering, Inc., Muncie, IN

Tool & Die Productions, Erie, PA

Tool Gauge & Machine Works, Inc., Tacoma, WA

Tool Mate Corporation, Cincinnati, OH

Tool Specialties Company, Hazelwood, MO

Tool Specialty Company, Los Angeles, CA

Tool Steel Service of California, Inc., Los Angeles, CA

Tool Tech Corporation, San Jose, CA

Tool Tech, Inc., Springfield, OH

Tool Technology, Inc., Danvers, MA

Tool Technology, Inc., Cookeville, TN

Tool-Matic Company, Inc., City Of Commerce, CA

Toolcomp Tooling & Components, Toledo, OH

Toolcraft of Phoenix, Inc., Glendale, AZ

Toolcraft Products, Inc., Dayton, OH

Toolex, Inc., Houston, TX

Tools Renewal Company, Birmingham, AL

Tools, Inc., Sussex, WI

Top Tool & Die, Inc., Cleveland, OH

Top Tool Company, Minneapolis, MN

Totally Radical Associates, Inc., Placentia, CA

Toth Industries, Inc., Toledo, OH

Toth Technologies, Cherry Hill, NJ

Tower Tool & Engineering, Inc., Machesney Park, IL

Trace-A-Matic Corporation, Brookfield, WI

Tracer Tool & Die Company Inc., Grand Rapids, MI

Trademark Die & Engineering, Comstock Park, MI

Tram Tek Inc., Phoenix, AZ

Trans-World Electric Inc., Port Arthur, TX

Treblig, Inc., Greenville, SC

Trec Industries, Inc., Brooklyn Heights, OH

Tree City Mold & Machine Co., Inc., Kent, OH

Treffers Precision, Inc., Phoenix, AZ

Tresco Tool, Inc., Guys Mills, PA

Tri Craft, Inc., Middleberg Heights, OH

Tri J Machine Company, Inc., Gardena, CA

Tri-City Machine Products, Inc., Peoria, IL

Tri-City Tool & Die, Inc., Bay City, MI

Tri-M-Mold, Inc., Stevensville, MI

Tri-Wire, Inc., Rockford, IL

Triad Plastic Technologies, Reno, NV

Triangle Mold & Machine Co. Inc., Hartville, OH

Triangle Tool Company, Erie, PA

Tricon Machine & Tool, Inc., Rochester, NY

Tricore Mold & Die, Machesney Park, IL

Tridecs Corporation, Hayward, CA

Trident Precision Manufacturing, Webster, NY

Trig Aerospace, Santa Ana, CA

Trim Systems, Inc., Seattle, WA

Trimac Manufacturing, Inc., Santa Clara, CA

Trimetric Specialties, Inc., Newark, CA

Trimline Tool, Inc., Grandville, MI

Trinity Tools, Inc., North Tonawanda, NY

Trio Tool & Die, Inc., Hawthorne, CA

Triple Quality Tool & Die, Inc., Bell, CA

Triple-T Cutting Tools Inc., West Berlin, NJ

Triplett Machine, Inc., Phelps, NY

Triplex Industries, Inc., Rochester, NY

Triumph Precision, Inc., Phoenix, AZ

Trojan Mfg. Co. Inc., Piqua, OH

Trotwood Corporation, Trotwood, OH

Tru Cut, Inc., Sebring, OH

Tru Form Manufacturing Corp., Rochester, NY

Tru Tool, Inc., Sturtevant, WI

True Cut EDM Inc., Garland, TX

True Position, Inc., Chatsworth, CA

True-Tech Corporation, Fremont, CA

Trueline Tool & Machine, Inc., Springfield, OH

Trust Technologies, Willoughby, OH

Trutron Corporation, Troy, MI

Tschida Engineering, Inc., Napa, CA

Tucker Machine Company, North Branford, CT

Tura Machine Company, Folcroft, PA

Turbo Machine & Tool, Inc., Cleveland, OH

Turn-Tech, Inc., Decker Prairie, TX

Turner and Walima Mfg. Co., Inc., Essex, MA

Turner's Machine Shop, Phoenix, AZ

Twin City Plating Company, Minneapolis, MN

Two-M Precision Co., Inc., Willoughby, OH

Tydan Machining, Inc., Denton, TX

Tymar Precision Inc., Santa Clara, CA

TAB Manufacturing Corporation, Plainville, CT

TAE Corporation, Kent, WA

TC Precision Machine Inc., Dayton, OH

TCI Aluminum North, Hayward, CA

TLT-Babcock, Inc., Akron, OH

TMK Manufacturing Inc., Campbell, CA

U C O Tool & Die, Inc., Union City, OH

U F E Incorporated, Stillwater, MN

U M C, Inc., Hamel, MN

U P Machine & Engineering Co., Powers, MI

U S Machine & Tool, Inc., Murfreesboro, TN

Uddeholm, Santa Fe Springs, CA

Ugm, Inc., Santa Clara, CA

Ultra Precision, Inc., Freeport, PA

Ultra Stamping & Assembly, Inc., Rockford, IL

Ultra Tool & Manufacturing, Inc., Menomonee Falls, WI

Ultra-Tech, Inc., Kansas City, KS

Ultramation, Inc., Waco, TX

Ultron, Long Beach, CA

Uneco Manufacturing, Inc., Chicopee, MA

Unigraphics Solutions, Brookfield, WI

Unique Machine Company, Montgomeryville, PA

Unique Tool & Manufacturing, Randleman, NC

Unitech Enterprises, Inc., Rowland Heights, CA

Unitech, Inc., Kansas City, MO

United Centerless Grinding, East Hartford, CT

United Engineering Company, Kernersville, NC

United Machine Co., Inc., Wichita, KS

United Stars Aerospace, Inc., Kent, WA

United States Fittings, Inc., Warrensville Heights, OH

United Tool & Engineering Co., South Beloit, IL

United Tool & Engineering, Inc., Mishawaka, IN

United Tool & Mold Inc., Holland, MI

Universal Custom Process, Inc., Streetsboro, OH

Universal Precision Products Inc., Akron, OH

Universal Tool Company, Dayton, OH

Universal Tools & Manufacturing, Springfield, NJ

Universe Industries, Irvine, CA

Upland Fab, Inc., Upland, CA

USAeroteam, Dayton, OH

UT Technologies, Inc., Los Angeles, CA

V & M Tool Company, Inc., Perkasie, PA

V & S Die & Mold, Inc., Lakewood, OH

V A Machine & Tools, Inc., Broussard, LA

V Ash Machine Company, Cleveland, OH

V I Mfg., Webster, NY

V R C, Inc., Berea, OH

Valley Machine Works, Inc., Phoenix, AZ

Valley Tool & Die, Inc., North Royalton, OH

Valley Tool & Mfg. Inc., Grayslake, IL

Valley Tool Room, Inc., Phoenix, AZ

Vals Tool & Die Corp., Mount Vernon, NY

Value Tool & Engineering, Inc., South Bend, IN

Valv-Trol Company, Stow, OH

Van Engineering, Cincinnati, OH

Van Os Machine Works, Inc., St. Louis, MO

Van Reenen Tool & Die Inc., Rochester, NY

Van-Am Tool & Engineering, Inc., St. Joseph, MO

Vanderveer Industrial Plastics, Placentia, CA

Vanpro, Inc., Cambridge, MN

Vantage Mold & Tool Company, Akron, OH

Vaughn Manufacturing Company, Nashville, TN

Vektek, Inc., Emporia, KS

Venango Machine Products, Inc., Reno, PA

Venture Precision Machining Co., Champaign, IL

Venture Tool, Inc., Erie, PA

Ver-Sa-Til Associates, Inc., Chanhassen, MN

Versa-Tool, Inc., Meadville, PA

VersaTool & Die Machining, Beloit, WI

Vi-Tec Manufacturing Inc., Livermore, CA

Viking Tool & Engineering, Whitehall, MI

Viking Tool & Gage, Inc., Conneaut Lake, PA

Vistek Precision Machine Company, Ivyland, PA

Vitron Manufacturing, Inc., Phoenix, AZ

Vitullo & Associates, Inc., Warren, MI

Vobeda Machine & Tool Company, Racine, WI

Vogform Tool & Die Company, Inc., West Springfield, MA

Vulcan Tool Corporation, Dayton, OH

W + D Machinery Company, Inc., Overland Park, KS

W & H Stampings & Fineblanking, Inc., Hauppauge, NY

W D & J Machine & Engineering Inc., Fullerton, CA

W E C Technologies Corporation, Deer Park, NY

W G Strohwig Tool & Die, Inc., Richfield, WI

W M C Grinding, Inc., Santa Fe Springs, CA

W W G, Inc., Indianapolis, IN

Wagner Engineering, Inc., Gilbert, AZ

Waiteco Machine, Acton, MA

Wajo Tool and Die, Inc., East Hampstead, NH

Walco Tool & Engineering Corp., Lockport, IL

Walker Corporation, Ontario, CA

Walker Tool & Machine Company, Perrysburg, OH

Wallner Tooling/Expac, Inc., Rancho Cucamonga, CA

Waltco Engineering, Inc., Gardena, CA

Walter Tool & Mfg. Inc., Elgin, IL

Walz & Krenzer, Inc., Rochester, NY

Warmelin Precision Products, Hawthorne, CA

Waukesha Cutting Tools, Inc., Waukesha, WI

Waukesha Tool & Stamping Inc., Sussex, WI

Wausau Insurance Companies, Wausau, WI

Wayne Manufacturing, Inc., Boulder, CO

Webco Machine Products, Inc., Valley View, OH

Weco Metal Products, Ontario, NY

Weiss-Aug Co. Inc., East Hanover, NJ

Wejco Instruments Inc., Houston, TX

Weldex, Inc., Warren, MI

Weltek-Swiss, Englewood, CO

Wemco Precision Tool, Inc., Meadville, PA

Wentworth Company, Glastonbury, CT

Werkema Machine Company, Inc., Grand Rapids, MI

Wes Products, Madison Heights, MI

West Hartford Tool & Die Company, Newington, CT

West Milton Precision Machine, Vandalia, OH

West Pharmaceutical Services, Erie, PA

West Tool & Manufacturing, Inc., Cleveland, OH

West Valley Milling, Inc., Chatsworth, CA

West Valley Precision Inc., Santa Clara, CA

Westbrook Manufacturing, Inc., Dayton, OH

Western Machining, Inc., Fullerton, CA

Western Mass. MechTech, Inc., Ware, MA

Western Steel Cutting, Inc., San Jose, CA

Western Tap Manufacturing Co., Buena Park, CA

Westfield Gage Company, Inc., Westfield, MA

Westfield Manufacturing Corp., Westfield, IN

Westfield Tool & Die, Inc., Westfield, MA

Westlake Tool & Die Mfg., Avon, OH

Westtool Inc., Phoenix, AZ

White Machine, Inc., North Royalton, OH

White Machine, Inc., North Kingstown, RI

Whitehead Tool & Design, Inc., Guys Mills, PA

Wiegel Tool Works, Inc., Wood Dale, IL

Wightman Engineering Services, Santa Clara, CA

Wilco Die Tool Machine Company, Maryland Heights, MO

Wilkinson Mfg., Inc., Santa Clara, CA

Willer Tool Corporation, Jackson, WI

William Sopko & Sons Co., Inc., Cleveland, OH

Williams Controls Industries, Portland, OR

Williams Engineering & Manufacturing, Inc., Chatsworth, CA

Williams Machine, Inc., Lake Elsinore, CA

Windsor Tool & Die, Inc., Cleveland, OH

Winter's Grinding Service, Menomonee Falls, WI

Wire Cut Company, Inc., Buena Park, CA

Wire Tech E D M, Inc., Los Alamitos, CA

Wire Tech, LLC, Watertown, CT

Wirecut Technologies, Inc., Indianapolis, IN

Wiretec, Inc., Delmont, PA

WireCut E D M, Inc., Dallas, TX

Wisconsin Engraving Company, New Berlin, WI

Wisconsin Metalworking Machinery, Waukesha, WI

Wisconsin Mold Builders, LLC, Waukesha, WI

Wise Machine Co., Inc., Butler, PA

Wolfe Engineering, Inc., Campbell, CA

Wolverine Bronze Company, Roseville, MI

Wolverine Tool & Engineering, Belmont, MI

Wolverine Tool Company, St. Clair Shores, MI

Woodruff Corporation, Torrance, CA

Wright Brothers Welding & Sheet Metal, Inc., Hollister, CA

Wright Industries, Inc., Nashville, TN

Wright Industries, Inc., Gilbert, AZ

Wright-K Technology, Inc., Saginaw, MI

WADKO Precision, Inc., Houston, TX

WSI Industries, Inc., Long Lake, MN

X L I Corporation, Rochester, NY

Yates Tool, Inc., Medina, OH

Yoder Die Casting Corporation, Dayton, OH

Yorktown Precision Technologies, Yorktown, IN

Youngberg Industries, Inc., Belvidere, IL

Youngers Sons Mf, Viola, KS

Youngstown Plastic Tooling & Machinery, Inc., Youngstown, OH

Z & Z Machine Products, Inc., Racine, WI

Z M D Mold & Die, Inc., Mentor, OH

Zakar, Inc., Brockport, NY

Zip Tool & Die Co., Inc., Cleveland, OH

Zircon Precision Products, Inc., Tempe, AZ

Zuelzke Tool & Engineering, Milwaukee, WI

4 Axis Machining, Inc., Denver, CO

86 Tool Company, Cambridge Springs, PA

[FR Doc. 00-11637 Filed 5-9-00; 8:45 am]

BILLING CODE 3510-DR-U